DEPARTMENT OF HEALTH AND HUMAN SERVICES

Centers for Medicare & Medicaid Services

[CMS-9033-N]

Medicare and Medicaid Programs; Quarterly Listing of Program Issuances—July Through September 2005

AGENCY: Centers for Medicare & Medicaid Services (CMS), HHS.

ACTION: Notice.

SUMMARY: This notice lists CMS manual instructions, substantive and interpretive regulations, and other Federal Register notices that were published from July 2005 through September 2005, relating to the Medicare and Medicaid programs. This notice provides information on national coverage determinations (NCDs) affecting specific medical and health care services under Medicare. Additionally, this notice identifies certain devices with investigational device exemption (IDE) numbers approved by the Food and Drug Administration (FDA) that potentially may be covered under Medicare. This notice also includes listings of all approval numbers from the Office of Management and Budget for collections of information in CMS regulations. Finally, this notice includes a list of Medicare-approved carotid stent facilities.

Section 1871(c) of the Social Security Act requires that we publish a list of Medicare issuances in the Federal Register at least every 3 months. Although we are not mandated to do so by statute, for the sake of completeness of the listing, and to foster more open and transparent collaboration efforts, we are also including all Medicaid issuances and Medicare and Medicaid substantive and interpretive regulations (proposed and final) published during this 3-month time frame.

FOR FURTHER INFORMATION CONTACT: It is possible that an interested party may have a specific information need and not be able to determine from the listed information whether the issuance or regulation would fulfill that need. Consequently, we are providing information contact persons to answer general questions concerning these items. Copies are not available through the contact persons. (See Section III of this notice for how to obtain listed material.)

Questions concerning items in Addendum III may be addressed to Timothy Jennings, Office of Strategic Operations and Regulatory Affairs, Centers for Medicare & Medicaid Services, C4-26-05, 7500 Security Boulevard, Baltimore, MD 21244-1850, or you can call (410) 786-2134.

Questions concerning Medicare NCDs in Addendum V may be addressed to Patricia Brocato-Simons, Office of Clinical Standards and Quality, Centers for Medicare & Medicaid Services, C1-09-06, 7500 Security Boulevard, Baltimore, MD 21244-1850, or you can call (410) 786-0261.

Questions concerning FDA-approved Category B IDE numbers listed in Addendum VI may be addressed to John Manlove, Office of Clinical Standards and Quality, Centers for Medicare & Medicaid Services, C1-13-04, 7500 Security Boulevard, Baltimore, MD 21244-1850, or you can call (410) 786-6877.

Questions concerning approval numbers for collections of information in Addendum VII may be addressed to Bonnie Harkless, Office of Strategic Operations and Regulatory Affairs, Regulations Development and Issuances Group, Centers for Medicare & Medicaid Services, C5-14-03, 7500 Security Boulevard, Baltimore, MD 21244-1850, or you can call (410) 786-5666.

Questions concerning Medicare-approved carotid stent facilities may be addressed to Sarah J. McClain, Office of Clinical Standards and Quality, Centers for Medicare & Medicaid Services, C1-09-06, 7500 Security Boulevard, Baltimore, MD 21244-1850, or you can call (410) 786-2994.

Questions concerning all other information may be addressed to Gwendolyn Johnson, Office of Strategic Operations and Regulatory Affairs, Regulations Development Group, Centers for Medicare & Medicaid Services, C5-14-03, 7500 Security Boulevard, Baltimore, MD 21244-1850, or you can call (410) 786-6954.

SUPPLEMENTARY INFORMATION:

I. Program Issuances

The Centers for Medicare & Medicaid Services (CMS) is responsible for administering the Medicare and Medicaid programs. These programs pay for health care and related services for 39 million Medicare beneficiaries and 35 million Medicaid recipients. Administration of the two programs involves (1) furnishing information to Medicare beneficiaries and Medicaid recipients, health care providers, and the public and (2) maintaining effective communications with regional offices, State governments, State Medicaid agencies, State survey agencies, various providers of health care, all Medicare contractors that process claims and pay bills, and others. To implement the various statutes on which the programs are based, we issue regulations under the authority granted to the Secretary of the Department of Health and Human Services under sections 1102, 1871, 1902, and related provisions of the Social Security Act (the Act). We also issue various manuals, memoranda, and statements necessary to administer the programs efficiently.

Section 1871(c)(1) of the Act requires that we publish a list of all Medicare manual instructions, interpretive rules, statements of policy, and guidelines of general applicability not issued as regulations at least every 3 months in the Federal Register. We published our first notice June 9, 1988 (53 FR 21730). Although we are not mandated to do so by statute, for the sake of completeness of the listing of operational and policy statements, and to foster more open and transparent collaboration, we are continuing our practice of including Medicare substantive and interpretive regulations (proposed and final) published during the respective 3-month time frame.

II. How To Use the Addenda

This notice is organized so that a reader may review the subjects of manual issuances, memoranda, substantive and interpretive regulations, NCDs, and FDA-approved IDEs published during the subject quarter to determine whether any are of particular interest. We expect this notice to be used in concert with previously published notices. Those unfamiliar with a description of our Medicare manuals may wish to review Table I of our first three notices (53 FR 21730, 53 FR 36891, and 53 FR 50577) published in 1988, and the notice published March 31, 1993 (58 FR 16837). Those desiring information on the Medicare NCD Manual (NCDM, formerly the Medicare Coverage Issues Manual (CIM)) may wish to review the August 21, 1989, publication (54 FR 34555). Those interested in the revised process used in making NCDs under the Medicare program may review the September 26, 2003, publication (68 FR 55634).

To aid the reader, we have organized and divided this current listing into eight addenda:

• Addendum I lists the publication dates of the most recent quarterly listings of program issuances.

• Addendum II identifies previous Federal Register documents that contain a description of all previously published CMS Medicare and Medicaid manuals and memoranda.

• Addendum III lists a unique CMS transmittal number for each instruction in our manuals or Program Memoranda and its subject matter. A transmittal may consist of a single or multiple instruction(s). Often, it is necessary to use information in a transmittal in conjunction with information currently in the manuals.

• Addendum IV lists all substantive and interpretive Medicare and Medicaid regulations and general notices published in the Federal Register during the quarter covered by this notice. For each item, we list the—

○ Date published;

○ Federal Register citation;

○ Parts of the Code of Federal Regulations (CFR) that have changed (if applicable);

○ Agency file code number; and

○ Title of the regulation.

• Addendum V includes completed NCDs, or reconsiderations of completed NCDs, from the quarter covered by this notice. Completed decisions are identified by the section of the NCDM in which the decision appears, the title, the date the publication was issued, and the effective date of the decision.

• Addendum VI includes listings of the FDA-approved IDE categorizations, using the IDE numbers the FDA assigns. The listings are organized according to the categories to which the device numbers are assigned (that is, Category A or Category B), and identified by the IDE number.

• Addendum VII includes listings of all approval numbers from the Office of Management and Budget (OMB) for collections of information in CMS regulations in title 42; title 45, subchapter C; and title 20 of the CFR.

• Addendum VIII includes listings of Medicare-approved carotid stent facilities. All facilities listed meet CMS standards for performing carotid artery stenting for high risk patients.

III. How To Obtain Listed Material

A. Manuals

Those wishing to subscribe to program manuals should contact either the Government Printing Office (GPO) or the National Technical Information Service (NTIS) at the following addresses: Superintendent of Documents, Government Printing Office, ATTN: New Orders, P.O. Box 371954, Pittsburgh, PA 15250-7954, Telephone (202) 512-1800, Fax number (202) 512-2250 (for credit card orders); or National Technical Information Service, Department of Commerce, 5825 Port Royal Road, Springfield, VA 22161, Telephone (703) 487-4630.

In addition, individual manual transmittals and Program Memoranda listed in this notice can be purchased from NTIS. Interested parties should identify the transmittal(s) they want. GPO or NTIS can give complete details on how to obtain the publications they sell. Additionally, most manuals are available at the following Internet address: http://cms.hhs.gov/manuals/default.asp.

B. Regulations and Notices

Regulations and notices are published in the daily Federal Register. Interested individuals may purchase individual copies or subscribe to the Federal Register by contacting the GPO at the address given above. When ordering individual copies, it is necessary to cite either the date of publication or the volume number and page number.

The Federal Register is also available on 24x microfiche and as an online database through GPO Access. The online database is updated by 6 a.m. each day the Federal Register is published. The database includes both text and graphics from Volume 59, Number 1 (January 2, 1994) forward. Free public access is available on a Wide Area Information Server (WAIS) through the Internet and via asynchronous dial-in. Internet users can access the database by using the World Wide Web; the Superintendent of Documents home page address is http://www.gpoaccess.gov/fr/index.html, by using local WAIS client software, or by telnet to swais.gpoaccess.gov, then log in as guest (no password required). Dial-in users should use communications software and modem to call (202) 512-1661; type swais, then log in as guest (no password required).

C. Rulings

We publish rulings on an infrequent basis. Interested individuals can obtain copies from the nearest CMS Regional Office or review them at the nearest regional depository library. We have, on occasion, published rulings in the Federal Register. Rulings, beginning with those released in 1995, are available online, through the CMS Home Page. The Internet address is http://cms.hhs.gov/rulings.

D. CMS' Compact Disk-Read Only Memory (CD-ROM)

Our laws, regulations, and manuals are also available on CD-ROM and may be purchased from GPO or NTIS on a subscription or single copy basis. The Superintendent of Documents list ID is HCLRM, and the stock number is 717-139-00000-3. The following material is on the CD-ROM disk:

• Titles XI, XVIII, and XIX of the Act.

• CMS-related regulations.

• CMS manuals and monthly revisions.

• CMS program memoranda.

The titles of the Compilation of the Social Security Laws are current as of January 1, 2003. (Updated titles of the Social Security Laws are available on the Internet at http://www.ssa.gov/OP_Home/ssact/comp-toc.htm.) The remaining portions of CD-ROM are updated on a monthly basis.

Because of complaints about the unreadability of the Appendices (Interpretive Guidelines) in the State Operations Manual (SOM), as of March 1995, we deleted these appendices from CD-ROM. We intend to re-visit this issue in the near future and, with the aid of newer technology, we may again be able to include the appendices on CD-ROM.

Any cost report forms incorporated in the manuals are included on the CD-ROM disk as LOTUS files. LOTUS software is needed to view the reports once the files have been copied to a personal computer disk.

IV. How To Review Listed Material

Transmittals or Program Memoranda can be reviewed at a local Federal Depository Library (FDL). Under the FDL program, government publications are sent to approximately 1,400 designated libraries throughout the United States. Some FDLs may have arrangements to transfer material to a local library not designated as an FDL. Contact any library to locate the nearest FDL.

In addition, individuals may contact regional depository libraries that receive and retain at least one copy of most Federal Government publications, either in printed or microfilm form, for use by the general public. These libraries provide reference services and interlibrary loans; however, they are not sales outlets. Individuals may obtain information about the location of the nearest regional depository library from any library. For each CMS publication listed in Addendum III, CMS publication and transmittal numbers are shown. To help FDLs locate the materials, use the CMS publication and transmittal numbers. For example, to find the Medicare NCD publication titled “Cochlear Implantation,” use CMS—Pub. 100-03, Transmittal No. 42.

(Catalog of Federal Domestic Assistance Program No. 93.773, Medicare—Hospital Insurance, Program No. 93.774, Medicare—Supplementary Medical Insurance Program, and Program No. 93.714, Medical Assistance Program)

Dated: December 7, 2005.
Jacquelyn Y. White,
Director, Office of Strategic Operations and Regulatory Affairs.

Addendum I

This addendum lists the publication dates of the most recent quarterly listings of program issuances.

June 27, 2003 (68 FR 38359)

September 26, 2003 (68 FR 55618)

December 24, 2003 (68 FR 74590)

March 26, 2004 (69 FR 15837)

June 25, 2004 (69 FR 35634)

September 24, 2004 (69 FR 57312)

December 30, 2004 (69 FR 78428)

February 25, 2005 (70 FR 9338)

June 24, 2005 (70 FR 36620)

September 23, 2005 (70 FR 55863)

Addendum II—Description of Manuals, Memoranda, and CMS Rulings

An extensive descriptive listing of Medicare manuals and memoranda was published on June 9, 1988, at 53 FR 21730 and supplemented on September 22, 1988, at 53 FR 36891 and December 16, 1988, at 53 FR 50577. Also, a complete description of the former CIM (now the NCDM) was published on August 21, 1989, at 54 FR 34555. A brief description of the various Medicaid manuals and memoranda that we maintain was published on October 16, 1992, at 57 FR 47468.

Addendum III.—Medicare and Medicaid Manual Instructions
[July through September 2005]
Transmittal No. | Manual/Subject/Publication No.
Medicare General Information
(CMS—Pub. 100-01)
25 | Next Generation Desktop Testing Requirements Definitions
| Next Generation Desktop Maintainer Requirements
26 | Implement New Medicare Plan ID and Carrier Number for the Single Testing Contractor
| Shared System Testing Requirements for Maintainers, Beta Testers, and Contractors
27 | Provider Extract File
28 | Conforming Changes for Change Request 3648 to Pub. 100-01
| Hospital Insurance (Part A) for Inpatient Hospital, Hospice, and Skilled Nursing Facility Services—A Brief Description Home Health Services
| Supplementary Medical Insurance (Part B)—A Brief Description
| Discrimination Prohibited
| Role of Part A Intermediaries
| Limitation on Physical Therapy, Occupational Therapy and Speech-Language Pathology Services
| Certification for Hospital Services Covered by the Supplementary Medical Insurance Program
| Content of the Physician's Certification
| Recertifications for Home Health Services
| Physician's Certification and Recertification for Outpatient Physical Therapy Occupational Therapy and Speech-Language Pathology Recertification
| Under Arrangements
| Term of Agreements
| Determining Payment for Services Furnished After Termination, Expiration, or Cancellation
| Home Health Agency Defined
29 | 2005 Scheduled Release for October Updates to Software Programs and Pricing/Coding Files
Medicare Benefit Policy
(CMS—Pub. 100-02)
37 | Conforming Changes for Change Request 3648 to Pub. 100-02
| Medical and Other Health Services Furnished to Inpatients of Participating Hospitals Outpatient Hospital Services
| Distinguishing Outpatient Hospital Services Provided Outside the Hospital Coverage of Outpatient Therapeutic Services
| Medical and Other Health Services Furnished by Home Health Agencies Skilled Services Defined
| Speech-Language Pathology
| Physical Therapy, Speech-Language Pathology, and Occupational Therapy Furnished by the Skilled Nursing Facility or by Others Under Arrangements With the Facility and Under Its Supervision
| Inpatient Physical Therapy, Occupational Therapy, and Speech-Language Pathology Services
| Services Furnished Under Arrangements With Providers
| Supplementary Medical Insurance Provisions
| Services Not Provided Within United States
Medicare National Coverage Determinations
(CMS—Pub. 100-03)
42 | Cochlear Implantation
| Cochlear Implantation (Effective April 4, 2005)
Medicare Claims Processing
(CMS—Pub. 100-04)
601 | Cochlear Implantation
| Billing Requirements for Expanded Coverage of Cochlear Implantation
| Intermediary Billing Procedures
| Applicable Bill Types
| Special Billing Requirements for Intermediaries
| Intermediary Payment Requirements
| Carrier Billing Procedures
| Healthcare Common Procedure Coding System
602 | Expansion of Various Alpha and Numeric Fields Within the Outpatient Prospective Payment System Outpatient Code Editor
603 | Modification to the Appeals Language on the Medicare Summary Notice; Full Replacement of Change Request 3808
| Appeals Section
| Back of Medicare Summary Notice—Carriers and Intermediaries Carrier Spanish Medicare Summary Notices Back Intermediary Spanish Medicare Summary Notices Back
604 | Issued to a specific audience, not posted to Internet/Intranet due to Confidentiality of Instruction
605 | Frequency Instructions for Smoking and Tobacco-Use Cessation Counseling Services
| Remittance Advice Notices
| Medicare Summary Notices
606 | Medicare Program-Update to the Hospice Payment Rates, Hospice Cap, Hospice Wage Index, and the Hospice Pricer for FY 2005
| Payment Rates
607 | Issued to a specific audience, not posted to Internet/Intranet due to Confidentiality of Instruction
608 | New Health Professional Shortage Area Modifier
| Zip Code Files
| Provider Education
| Claims Coding Requirements
| Services Eligible for Health Professional Shortage Area and Physician Scarcity Bonus Payments
| Post-payment Review
| Health Professional Shortage Area Incentive Payments for Physician Services Rendered in a Critical Access Hospital
609 | Remittance Advice Remark Code and Claim Adjustment Reason Code Update
610 | This Transmittal is rescinded and replaced by Transmittal 634
611 | Payment Methodology for Rehabilitation Services in Indian Health Service/Tribally Owned and/or Operated Hospitals and Hospital Based Facilities
| Services Paid Under the Physician Fee Schedule
612 | Abarelix for Treatment of Prostate Cancer
613 | New Healthcare Common Procedure Coding System Codes and Systems Edits for Supplies and Accessories for Ventricular Assist Devices—Full Replacement of CR 3761
614 | Medicare Physician Fee Schedule Database 2006 File Layout
615 | Revision of Chapter 24, Electronic Data Interchange Support Requirements
| Electronic Data Interchange General Outreach Activities Carrier, Durable Medical Equipment Regional Carrier, and Fiscal Intermediary Analysis of Internal Information
| Systems Information
| Review of Provider Profiles
| Contact with New Providers
| Production and Distribution of Material to Increase Use of Electronic Data Interchange
| Electronic Data Interchange Enrollment
| New Enrollments and Maintenance of Existing Enrollments
| Submitter Number
| Release of Medicare Eligibility Data
| Network Service Vendor Agreement
| Electronic Data Interchange User Guidelines
| Directory of Billing Software Vendors and Clearinghouses
| Technical Requirements—Data, Media, and Telecommunications System Availability
| Media
| Telecommunications and Transmission Protocols
| Toll-Free Service
| Initial Editing
| Translators
| Required Electronic Data Interchange Formats
| General Health Insurance Portability and Accountability Act Electronic Data Interchange Requirements
| Continued Support of Pre-Health Insurance Portability and Accountability Act
| Electronic Data Interchange Formats
| National Council for Prescription Drug Program Claim Requirements
| Crossover Claim Requirements
| Direct Data Entry Screens
| Use of Imaging, External Key Shop, and In-House Keying for Entry of Transaction Data Submitted on Paper
| Electronic Funds Transfer
| Electronic Data Interchange Testing Requirements
| Shared System and Common Working File Maintainers Internal Testing Requirements
| Carrier, Durable Medical Equipment Regional Carrier, and Intermediary Internal Testing Requirements
| Third-Party Certification Systems and Services
| Electronic Data Interchange Submitter/Receiver Testing by Carriers, Durable Medical Equipment Regional Carriers, and Fiscal Intermediaries
| Testing Accuracy
| Limitation on Testing of Multiple Providers That Use the Same Clearinghouse, Billing Service, or Vendor Software
| Carrier, Durable Medical Equipment Regional Carrier, and Fiscal Intermediary Submitter/Receiver Testing With Legacy Formats During the Health Insurance Portability and Accountability Act Contingency Period
| Discontinuation of Use of Claim Legacy Formats following Successful Health Insurance Portability and Accountability Act Format Testing
| Electronic Data Interchange Receiver Testing by Carriers, Durable Medical Equipment Regional Carriers, and Intermediaries
| Changes in Provider's System or Vendor's Software, and Use of Additional Electronic Data Interchange Formats
| Support of Electronic Data Interchange Trading Partners
| User Guidelines
| Technical Assistance to Electronic Data Interchange Trading Partners
| Training Content and Frequency
| Prohibition Against Requiring Use of Proprietary Software or Direct Data Entry
| Free Claim Submission Software
| Remittance Advice Print Software
| Medicare Remit Easy Print Software for Carrier and Durable Medical Equipment Regional Carrier Provider Use
| Medicare Standard Fiscal Intermediary PC-Print Software
| Newsletters/Bulletin Board/Internet Publication of Electronic Data Interchange Information
| Provider Guidelines for Choosing a Vendor
| Determining Goals/Requirements
| Vendor Selection
| Negotiating With Vendors
| Electronic Data Interchange Edit Requirements
| Carrier, Durable Medical Equipment Regional Carrier, and Fiscal Intermediary X12 Edit Requirements
| Supplemental Fiscal Intermediary-Specific Shared System Edit Requirements
| Fiscal Intermediary Health Insurance and Portability Accountability Act Claim
| Level Implementation Guide Edits
| Supplemental Carrier/Durable Medical Equipment Regional Carrier-Specific Shared System Implementation Guide Edit Requirements
| Keyshop and Image Processing
| Carrier, Durable Medical Equipment Regional Carrier, or Fiscal Intermediary Data Security and Confidentiality Requirements
| Carrier, Durable Medical Equipment Regional Carrier, and Fiscal Intermediary Electronic Data Interchange Audit Trails
| Security-Related Requirements for Carrier, Durable Medical Equipment
| Regional Carrier, or Fiscal Intermediary Arrangements with Clearinghouses And Billing Services
| Mandatory Electronic Submission of Medicare Claims
| Small Providers and Full-Time Equivalent Employee Self-Assessments
| Exceptions
| Unusual Circumstance Waivers
| Unusual Circumstance Waivers Subject to Provider Self-Assessment
| Unusual Circumstance Waivers Subject to Medicare Contractor Approval
| Unusual Circumstance Waivers Subject to Contractor Evaluation and CMS Decision
| Electronic and Paper Claims Implications of Mandatory Electronic Submission Enforcement
| Provider Education
616 | Certified Registered Nurse Anesthetist Pass-Through Payments
| Anesthesia and Certified Registered Nurse Anesthetist Services in a Critical Access Hospitals
| Payment for Certified Registered Nurse Anesthetist Pass-Through Services
| Payment for Anesthesia Services by a Certified Registered Nurse Anesthetist (Method II Critical Access Hospital Only)
617 | Administration of Drugs and Biologicals in a Method II Critical Access Hospital
| Coding for Administering Drugs in a Method II Critical Access Hospital
| Coding for Low Osmolar Contrast Material
618 | Coding for the Administration of Other Drugs and Biologicals
| Clarification for Carriers and Durable Medical Equipment Regional Carriers About Correction and Recoupment of Previously Processed Claims
619 | Late IRF-PAI Data Submission Penalty Protocol Within the Inpatient Rehabilitation Facility Prospective Payment System
| Payment Adjustment for Late Transmission of Patient Assessment Data
620 | New Fiscal Intermediary (FI) Edit to Identify Potentially Excessive Medicare Payments
| Fiscal Intermediary Edits Affecting Multiple Bill Types
| Threshold Edit for Outpatient and Inpatient Part B Claims
621 | Locality Codes for Purchased Diagnostic Tests
622 | This Transmittal is rescinded and replaced by Transmittal 668
623 | Durable Medical Equipment Regional Carrier Only—Corrections to the Billing Indicator Field for Adjusted Claims
624 | This Transmittal is rescinded and replaced by Transmittal 686
625 | Competitive Acquisition Program for Part B Drugs—Coding, Testing, and Implementation
626 | Common Working File Expansion of Duplicate Claim Edit for Clinical Diagnostic Services
627 | New Low Osmolar Contrast Material (LOCM) HCPCS Codes/Payment Criteria/Payment Level
| Low Osmolar Contrast Media (HCPCS Codes Q9945-Q9951)
| Payment Criteria/Payment Level
628 | Radiopharmaceutical Diagnostic Imaging Agents Codes Applicable to Positron Emission Tomography Scan Services Performed on or After January 28, 2005
| Appropriate Common Procedure Terminology Codes Effective for Positron Emission Tomography Scan Services Performed on or After January 28, 2005
| Tracer Codes Required for Positron Emission Tomography Scans
629 | Certificate of Medical Necessity Claim Edits Workload Reporting
| Durable Medical Equipment Regional Carrier Systems
630 | Medicare Part A Skilled Nursing Facility Prospective Payment System Pricer
| Update and Health Insurance Prospective Payment System Coding Update Effective January 1, 2006
| Health Insurance Prospective Payment System Rate Code
| Skilled Nursing Facility Prospective Payment System Rate Components
| Decision Logic Used by the Pricer on Claims
631 | Claim Status Category Code and Claim Status Code Update
632 | Billing and Claims Processing Instructions for Claims Subject to Expedited Determinations
| Limitation of Liability Notification and Coordination With Quality
| Improvement Organizations
| Limitation on Liability—Overview
| Hospital Claims Subject to Hospital Issued Notices of Noncoverage
| Scope of Issuance of Hospital Issued Notices of Noncoverage
| General Responsibilities of Quality Improvement Organizations and Fiscal Intermediaries Related to Hospital Issued Notices of Noncoverage
| Billing and Claims Processing Requirements Related to Hospital Issued Notices of Noncoverage
| Skilled Nursing Facility, Home Health Agency, Hospice, and Comprehensive Outpatient Rehabilitation Facility Claims Subject to Expedited Determinations
| Scope of Issuance of Expedited Determination Notices
| General Responsibilities of Quality Improvement Organizations and Fiscal Intermediaries Related to Expedited Determinations
| Billing and Claims Processing Requirements Related to Expedited Determinations
| Coordination With the Quality Improvement Organization
633 | Guidelines for Payment of Vaccines (Pneumococcal Pneumonia Virus, Influenza Virus, and Hepatitis B Virus) and Their Administration Provided by Indian Health Service/Tribally-Owned and/or Operated Hospitals and Hospital Based Facilities
| Billing Requirements
| Bills Submitted to Fiscal Intermediaries
| Vaccines and Vaccine Administration
634 | Guidelines for Payment of Vaccines (Pneumococcal Pneumonia Virus, Influenza Virus, and Hepatitis B Virus) and Their Administration at Renal Dialysis Facilities
| Vaccines Furnished to End-Stage Renal Disease Patients
| Fiscal Intermediary Payment for Pneumococcal Pneumonia, Influenza Virus, and Hepatitis B Vaccine
| Bills Submitted by Hospices and Payment for Renal Dialysis Facilities
635 | Financial Liability for Services Subject to Home Health Consolidated Billing
| Home Health Prospective Payment System Consolidated Billing and Primary
| Home Health Agencies
| Home Health Prospective Payment System Consolidated Billing Beneficiary Notification and Payment Liability Under Home Health Consolidated Billing
| Responsibilities of Home Health Agencies
| Responsibilities of Providers/Suppliers of Services Subject to Consolidated Billing
| Responsibilities of Hospitals Discharging Medicare Beneficiaries to Home Health Care
| Home Health Consolidated Billing Edits in Medicare Systems
| Non-routine Supply Editing
| Therapy Editing
| Other Editing Related to Home Health Consolidated Billing
| Only Request for Anticipated Payment Received and Services Fall Within 60 Days After Request for Anticipated Payment Start Date
| No Request for Anticipated Payment Received and Therapy Services Rendered in the Home
| Health Insurance Eligibility Query to Determine Episode Status
| Other Editing and Changes for Home Health Prospective Payment System Episodes
| Coordination of Home Health Prospective Payment System Claims and Episodes With Inpatient Claim Types
636 | Instructions for Implementation of CMS Ruling 05-01; Presbyopia-Correcting Intraocular Lens
637 | Issued to a specific audience, not posted to Internet/Intranet due to Confidentiality of Instruction
638 | New Medicare Summary Notice Messages
| Adjustments
| Ajustes
639 | Cessation of Additional $50 Payment for New Technology Intraocular Lenses
| Ambulatory Surgical Center Services on Ambulatory Surgical Center List
| Payment for Intraocular Lens
640 | Medicare Part A Skilled Nursing Facility Prospective Payment System Pricer Update FY 2006
641 | October 2005 Quarterly Update to Skilled Nursing Facility Consolidated Billing
642 | New Waived Tests
643 | Nature and Effect of Assignment on Carrier Claims
644 | October 2005 Non-Outpatient Prospective Payment System Code Editor Specifications Version 21
645 | Issued to a specific audience, not posted to Internet/Intranet due to Confidentiality of Instruction
646 | Update to the Inpatient Provider Specific File and the Outpatient Provider
| Specific File to Retain Provider Information
647 | The Supplemental Security Income/Medicare Beneficiary Data for Fiscal Year 2004 for Inpatient Prospective Payment System Hospitals
648 | Issued to a specific audience, not posted to Internet/Intranet due to Confidentiality of Instruction
649 | Competitive Acquisition Program for Part B Drugs—Coding, Testing, and Implementation
650 | This Transmittal is rescinded and replaced by Transmittal 673
651 | Changes to the Laboratory National Coverage Determination Edit Software for October 2005
652 | This Transmittal is rescinded and replaced by Transmittal 661
653 | October 2005 Quarterly Average Sales Price Medicare Part B Drug Pricing File, Effective October 1, 2005 and Revisions to April 2005 and July 2005 Quarterly Average Sale Price Medicare Part B Drug Pricing File
654 | Services Not Provided Within the United States
| Services Received by Medicare Beneficiaries Outside the United States Source of Part B Claims
| Appeals of Denied Charges for Physicians and Ambulance Services in Connection With Foreign Hospitalization
| Services Rendered in Nonparticipating Providers
| Coverage Requirements for Emergency Hospital Services in Foreign Countries
| Services Furnished in a Foreign Hospital Nearest to Beneficiary's U.S. Residence
| Coverage of Physician and Ambulance Services Furnished Outside U.S.
| Payment by the Railroad Retirement Beneficiaries for Services Furnished in Canada to Qualified Railroad Retirement Beneficiaries
| Foreign Religious Nonmedical Health Care Facility Claims
| Elections to Bill for Services Rendered at Nonparticipating Hospitals
| Processing Claims
| Appeals on Claims for Emergency and Foreign Services
| Payment for Services from Foreign Hospitals
| Full Denial—Foreign Claim—Beneficiary Filed
655 | This Transmittal is rescinded and replaced by Transmittal 663
656 | Full Replacement of Change Request 3607, Payment Edits in Applicable States For Durable Medical Equipment Prosthetics, Orthotics & Supplies
| Provider Billing for Prosthetics and Orthotic Services
657 | Quarterly Update to Correct Coding Initiative Edits, Version V11.3, Effective October 1, 2005
658 | Billing for Devices Under the Hospital Outpatient Prospective Payment System
| Billing for Devices Under the Outpatient Prospective Payment System
| Requirements that Hospitals Report Device Codes on Claims on Which They Report Specified Procedures
| Edits for Claims on Which Specified Procedures Are To Be Reported With Device Codes
659 | Instructions for Downloading the Medicare Zip Code File
660 | This Transmittal is rescinded and replaced by Transmittal 664
661 | This Transmittal is rescinded and replaced by Transmittal 672
662 | This Transmittal is rescinded and replaced by Transmittal 691
663 | Update To The Hospice Payment Rates, Hospice Cap, Hospice Wage Index, and the Hospice Pricer for Fiscal Year 2006
664 | This Transmittal is rescinded and replaced by Transmittal 683
665 | October Quarterly Update for 2005 Durable Medical Equipment, Prosthetics, Orthotics, and Supplies Fees Schedule
666 | Updates to the Coordination of Benefits Contractor Detailed Error
| Report File Layout
| Consolidation of the Claims Crossover Process
| Coordination of Benefits Agreement Detailed Error Notification Process
667 | Home Care and Domiciliary Care Visits (Codes 99321-99350)
668 | Enforcement of Hospital Inpatient Bundling: Carrier Denial of Ambulance Claims During an Inpatient Stay
| Hospital Inpatient Bundling
| General Coverage and Payment Policies
| Common Working File Editing of Ambulance Claims for Inpatients
| Intermediary Guidelines
| Provider/Intermediary Bill Processing Guidelines Effective April 1, 2002, as a Result of Fee Schedule Implementation
669 | Schedule for Completing the Calendar Year 2006 Fee Updates and the Participating Physician Enrollment Procedures
670 | Realignment of States and Medicare Claims Processing Workload From Durable Medical Equipment Regional Carrier Regions A, B, C, and D to the Durable Medical Equipment Major Ambulatory Jurisdictions A, B, C and D
671 | Updated Manual Instructions for the Medicare Claims Processing Manual, Regarding Smoking and Tobacco-Use Cessation Counseling Services
| Healthcare Common Procedure Coding System and Diagnosis Coding
| Carrier Billing Requirements
| Fiscal Intermediary Billing Requirements
| Medicare Summary Notices
672 | October Update to the 2005 Medicare Physician Fee Schedule Database
673 | Manual Update on Medical Nutrition Therapy Services—Manualization
| Medicare Nutrition Therapy Services
| General Conditions and Limitations on Coverage
| Referrals for Medicare Nutrition Therapy Services
| Dietitians and Nutritionists Performing Medicare Nutrition Therapy Services
| Payment for Medicare Nutrition Therapy Services
| General Claims Processing Information
| Common Working File Edits
674 | This Transmittal is rescinded and replaced by Transmittal 692
675 | Changes to Appeals of Claims Decisions: Redeterminations and Reconsiderations (Implementation Date October 1, 2005)
| Workload Data Analysis Program
| Managing Appeals Workloads
| Standard Operating Procedures
| Execution of Workload Prioritization
| Workload Priorities
676 | 2006 Healthcare Common Procedure Coding System Annual Update Reminder
677 | This Transmittal is rescinded and replaced by 687
678 | This Transmittal is rescinded and replaced by 688
679 | Medicare Redetermination Notice and Effect of the Redetermination Medicare Redetermination Notice (for partly or fully unfavorable redeterminations)
| Medicare Redetermination Notice (for fully favorable redeterminations) Effect of the Redetermination
680 | Inpatient Rehabilitation Facility Annual Update: Prospective Payment System Pricer Changes for FY 2006
681 | Guidelines For Payment of Vaccines (Pneumococcal Pneumonia Virus, Influenza Virus, And Hepatitis B Virus) and Their Administration Provided by Indian Health Services/Tribally-Owned and/or Operated Hospitals and Hospital Based Facilities
| Billing Requirements
| Bills Submitted to Fiscal Intermediaries
| Vaccines and Vaccine Administration
682 | Issued to a specific audience, not posted to Internet/Intranet due to Confidentiality of Instruction
683 | October 2005 Outpatient Prospective Payment System Code Editor Specifications Version
684 | Correction to Chapter 17, Section 80.2.3, MSN/ANSI X12 Denial Messages for Anti-Emetic Drugs
685 | Discontinuation of the Skilled Nursing Facility Healthcare Common Procedure Coding System Help File and Notification to Fiscal Intermediaries and Providers of the Redesigned Skilled Nursing Facility Consolidated Billing Annual Update File Posted on CMS Web site
| Services Included in Part A Prospective Payment System Payment Not Billable Separately by the Skilled Nursing Facility
| Services Beyond the Scope of the Part A Skilled Nursing Facility Benefit
| Billing for Medical and Other Health Services
| General Payment Rules and Application of Part B Deductible and Coinsurance
686 | Common Working File Unsolicited Response Adjustments for Certain Claims Denied Due to an Open Medicare Secondary Payer Group Health Plan Record Where the Group Health Plan Record Was Subsequently Deleted
687 | Appeals of Claims Decisions: Redeterminations and Reconsiderations (Implementation Dates for Fiscal Intermediary Initial Determination Issued On or After May 1, 2005 and Carrier Initial Determinations Issued on or After January 1, 2006)
| Filing a Request for Redetermination
| Appeal Rights for Dismissals
| Dismissal Letters
| Model Dismissal Notices
| Reconsideration—The Second Level of Appeal
| Filing a Request for a Reconsideration
| Time Limit for Filing a Request for a Reconsideration
| Contractor Responsibilities—General
| Qualified Independent Contractor Case File Development
| Qualified Independent Contractor Case File Preparation
| Forwarding Qualified Independent Contractor Case Files
| Qualified Independent Contractor Jurisdictions
| Tracking Cases
| Effectuation of Reconsiderations
688 | Appeals of Claims Decisions: Redeterminations and Reconsiderations (Implementation Dates for All Requests for Redetermination Received by Fiscal Intermediary on or After May 1, 2005, and All Requests for Redetermination Received by Carriers on or After January 1, 2006)
| Redetermination—The First Level of Appeal
| The Redetermination
| The Redetermination Decision
| Dismissals
| Vacating a Dismissal
689 | One Time Update to the National Council Prescription Drug Programs
| Companion Document Regarding Crossover Claims to Medicaid
690 | Fiscal Year (FY) 2006 Payment for Services Furnished in Ambulatory Surgical Centers
691 | October 2005 Update of the Hospital Outpatient Prospective Payment System
692 | Fiscal Year 2006 Inpatient Prospective Payment System and Long Term Care Hospital Changes
693 | Updates to the Inpatient Rehabilitation Facility and Skilled Nursing Facility
| Provider Specific File and Changes in Inpatient Rehabilitation Facility
| Prospective Payment System for FY 2006
| Provider-Specific File
| Case-Mix Groups
| Facility Level Adjustments
| Area Wage Adjustment
| Rural Adjustment
| Outlier
| Teaching Status Adjustment
| Full Time Equivalent Resident Cap
| Inpatient Rehabilitation Facility Prospective Payment System Pricer Software
694 | Update to the Healthcare Provider Taxonomy Codes Version 5.1
Medicare Secondary Payer
(CMS—Pub. 100-05)
31 | Full Replacement of Change Request 3770, Expanding the Number of Source Identifiers for Common Working File Medicare Secondary Payer Records
| Change Request 3770 Is Rescinded
| Definition of Medicare Secondary Payer/Common Working File Terms
| Medicare Secondary Payer Delete Transaction
| Identification of Reimbursement Advisory Committee Created Group Health Plan Records
32 | Exception for Small Employers in Multi-Employer Group Health Plans Overview and General Responsibilities
| Introduction to the Coordination of Benefits Contractor
| Scope of the Coordination of Benefit Contractor in Relation to Contractors
| Contractors Claim Referrals to the Coordination of Benefit Contractors IRS/SSA/CMS Data Match
| Coordination of Benefit Contractors Discontinues Dissemination of the Right of Recovery Letters to Contractors
| Exception for Small Employers in Multi-Employer Group Health Plans
| Purpose
| Background
| Specific Information
33 | Working Aged Exception for Small Employers in Multi-Employer Group Health Plans
34 | Manualization: Long-Standing Medicare Secondary Payer Policy in Chapter 1 of the Medicare Secondary Payer Internet Only Manual
| General Provisions
| Working Aged
| End-Stage Renal Disease
| Workers' Compensation
| No-Fault Insurance
| Liability Insurance
| Conditional Primary Medicare Benefits
| When Conditional Primary Medicare Benefits May Be Paid When a Group Health Plan Is a Primary Payer to Medicare
| When Conditional Primary Medicare Benefits May Not Be Paid When a Group Health Plan Is a Primary Payer to Medicare
| When Medicare Secondary Payer Benefits Are Payable and Not Payable
| Multiple Insurers
| Definitions
| Crediting Deductible for Non-Inpatient Psychiatric Services
| Clarification of Current Employment Status for Specific Groups
| Actions Resulting From Group Health Plan or Large Group Health Plan
| Nonconformance
| Federal Government's Right to Sue and Collect Double Damages
35 | Updates to the Group Health Plan Identification and Recovery Processes
| General
| IRS/SSA/CMS Data Match (Data Match) Group Health Plan Identified Cases
| Non-Data Match Group Health Plan Identified Cases
| Other Sources of Recovery Actions
| Group Health Plan Acknowledges Specific Debt (42 CFR 411.25)
| Recovery When a State Medicaid Agency Has Also Requested a Refund From the Group Health Plan
| Identification of Group Health Plan Mistaken Primary Payments Via the Recovery Management and Accounting System
| Progression of Recovery Management Accounting System Group Health Plan
| Lead Identification
| Progression of Recovery Management Accounting System History Search
| Contractor Recovery Case Files (Audit Trails)
| Group Health Plan Letters (Used for Recovery Management Accounting
| System/Healthcare Integrated General Ledger Accounting System (ReMAS/HIGLAS) When the Only Debtor Interfaced to Healthcare Integrated General Ledger Accounting System Is the Employer)
| Employer Group Health Plan Letter
| Important Information for Employers
| Insurer Group Health Plan Letter (Used for Recovery Management Accounting System/Healthcare Integrated General Ledger Accounting System When the Only Debtor Interfaced to Healthcare Integrated General Ledger Accounting System Is the Employer)
| Accountability Worksheet (Not Applicable to Recovery Management Accounting System/Healthcare Integrated General Ledger Accounting System Users)
| Summary Data Sheet (Not Applicable to ReMAS/HIGLAS Users)
| Field Description on the Medicare Secondary Payer Summary Data Sheet Payment Record Summary (Used with ReMAS/HIGLAS Users but in a Modified Format)
| Courtesy Copy of All Medicare Secondary Payer Group Health Plan-Based Recovery Demand Packages to the Employer's Insurer/Third Party Administrator
| Insurer/Third Party Administrator Courtesy Copy Letter
| Recovery Management Accounting System Error Reports
| Mistaken Group Health Plan Primary Payments
| Mistaken Primary Payment Activities and Record Layouts
| Contractor Actions Upon Receipt of the Data Match Cycle Tape or Other Notice of Non-Data Match Group Health Plan Mistaken Payments (for Contractor Not on ReMAS/HIGLAS for GHP Recovery) and Actions to Take for Those Contractors Using Recovery Management Accounting System/Health Integrated General Ledger Accounting System Group Health Plan Functions
| Coordination of Benefits Contractor Responsibility to Obtain Missing Medicare Secondary Payer Information
| Time Limitations for Group Health Plan Recoveries
| Actual Notice
| Contractor History Search
| Aggregate Claims for Recovery
| Documentation of Debt
| Recovery Attempt Audit Trails
| Summary of Medicare Reimbursement
| Claim Facsimiles for Each Claim Mistakenly Paid
| IRS/SSA/CMS Mistaken Payment Recovery Tracking System
| Inpatient, Skilled Nursing Facility, and Religious Non-Medicare Health Care
| Outpatient Mistaken Payment Report Record Layout
| Home Health Agency Mistaken Payment Record Layout
| Communication Receive in Response to Recovery Actions
36 | Update to the Healthcare Provider Taxonomy Codes Version 5.1
Medicare Financial Management
(CMS—Pub. 100-06)
71 | Notice of New Interest Rate for Medicare Overpayments and Underpayments
72 | Claims Accounts Receivable Update
| Intermediary Claims Accounts Receivable
| Financial Reporting for Intermediary Claims Accounts Receivable
73 | This Transmittal is rescinded and replaced by Transmittal 75
74 | Discovery Code Indication for Recovery Audit Contractor (RAC) Non-MSP Identified Overpayments
75 | New Thresholds for 2nd Demand Letter for Physicians/Suppliers
| Part B Overpayment Demand Letters to Physicians/Suppliers
76 | Development of New Report to Capture Benefits, Improvement and Protection Act and Medicare Prescription Drug, Improvement, and Modernization Act Appeals Data
| Monthly Statistical Report on Intermediary and Carrier Part A and Part B
| Appeals Activity Form
| Redeterminations
| Qualified Independent Contractor Reconsiderations
| Administrative Law Judge Results
| Department Appeals Board Effectuations
| Clerical Error Reopenings
| Validation of Reports
77 | Non-Medicare Secondary Payer Debt Referral and Debt Collection Improvement Act of 1996 Activities
| Background
| Cross Servicing
| Treasury Offset Program
| Definition of Delinquent Debt
| Referral Requirements
| Exemptions to Referral
| Debt to be Referred
| Delinquent Non-Medicare Secondary Payer Fiscal Intermediary Debt, Including Debt on the Provider Overpayment Reporting System
| Delinquent Non-Medicare Secondary Payer Medicare Carrier Debt, Including Debt on the Physician/Supplier Overpayment Reporting System
| Delinquent Non-Medicare Secondary Payer Debt Previously Ineligible for Referral
| Debt Collection Improvement Act Language/Intent to Refer Letter
| Response to “Intent to Refer” Letter
| Provider Overpayment Reporting System Updates
| Physician/Supplier Overpayment Reporting System Updates
| Cross Servicing Collection Efforts
| Actions Subsequent to Debt Collection System Input
| Transmission of Debt
| Update to Debt Collection System After Transmission
| Financial Reporting for Debt Referred
| Financial Reporting for Non-Medicare Secondary Payer Debt
78 | Coordination of Benefits Agreement Process for Contractor Financial Staff Notification
Medicare State Operations Manual
(CMS—Pub. 100-07)
09 | Revision of Appendix P and Certain Exhibits of the State Operations Manual
10 | Revisions—Appendix J—Interpretive Guidelines Intermediate Care Facilities With Mental Retardation
11 | Revised Chapter 2—“The Certification Process,” Sections 2180E thru 2200F, and Appendix B—“Interpretive Guidelines: Home Health Agencies”
Medicare Program Integrity
(CMS—Pub. 100-08)
115 | Program Integrity Manual Revision
| Affiliated Contractor/Full Program Safeguard Contractor Communication With the Comprehensive Error Rate Testing Contractor
| Overview of the Comprehensive Error Rate Testing Process
| Providing Sample Information to the Comprehensive Error Rate Testing Contractor
| Providing Review Information to the Comprehensive Error Rate Testing Contractor
| Providing Feedback Information to the Comprehensive Error Rate Testing Contractor
| Disputing/Disagreeing With a Comprehensive Error Rate Testing Decision Handling Overpayments and Underpayments Resulting From the Comprehensive Error Rate Testing Findings
| Handling Appeals Resulting From Comprehensive Error Rate Testing Initiated Denials
| Tracking Overpayments
| Tracking Appeals
| Potential Fraud
| Full Program Safeguard Contractor Requirements Involving Comprehensive Error Rate Testing Information Dissemination
| Full Program Safeguard Contractor Error Rate Reduction Plan
| Contacting Non-Responders
| Late Documentation Received by the Comprehensive Error Rate Testing Contractor
| Voluntary Refunds
| Local Coverage Determination/National Coverage Determination
| Comprehensive Error Rate Testing Review Contractor Review Guidelines
116 | Revise the Fiscal Intermediary Shared System to Allow Reporting of Data for the Comprehensive Error Rate Testing Program Resolution File at a Line Level
117 | Revise the Medicare Contractor System and the VIPS Medicare System To Allow Update of the Comprehensive Error Rate Testing Program Resolution File Within Five Business Days of a Comprehensive Error Rate Testing Request
118 | Various Benefit Integrity Clarifications
| Goal of Medical Review Program
| Overpayment Procedures
| Disposition of the Suspension
| The Medicare Fraud Program
| Program Safeguard Contractor and Medicare Contractor Benefit Integrity Unit
| Organizational Requirements
| Training for Law Enforcement Organizations
| Procedural Requirements
| Requests for Information From Outside Organizations
| Sharing Fraud Referrals Between the Office of Inspector General and the Department of Justice
| Complaint Screening
| Investigations
| Conducting Investigations
| Disposition of Cases
| Reversed Denials by Administrative Law Judges on Open Cases
| Types of Fraud Alerts
| Coordination
| Investigation, Case, and Suspension Entries
| Update Requirements for Cases
| Closing Investigations
| Deleting Investigations, Cases, or Suspensions
| Access
| Harkin Grantees or Senior Medicare Patrol—Complaint Tracking System
| Harkin Grantees or Senior Medicare Patrol Project Description
| Harkin Grantees Tracking System Instructions
| System Access to Metaframe and Data Collection
| Data Dissemination/Aggregate Report
| Referral of Cases to the Office of the Inspector General/Office of Investigations
| Immediate Advisements to the Office of Inspector General/Office of Investigations
| Denial of Payments for Cases Referred to and Accepted by Office of Inspector General/Office of Investigations
| Take Administrative Action on Cases Referred to and Refused by Office of Inspector General /Office of Investigations
| Referral to State Agencies or Other Organizations
| Referral to Quality Improvement Organizations
| Referral Process to CMS
| Referrals to Office of Inspector General
| Breaches of Assignment Agreement by Physician or Other Supplier
| Annual Deceased-Beneficiary Postpayment Review
| Vulnerability Report
119 | Issued to a specific audience, not posted to Internet/Intranet due to Confidentiality of Instruction
120 | Correction to Change Request (CR) 3222: Local Medical Review Policy/Local Coverage Determination Medicare Summary Notice Message Revision Denials Notices
121 | This Transmittal is rescinded and replaced by Transmittal 124
122 | Medical Review Collection Number Requirements
| Overview of Prepayment and Postpayment Review for Medical Review Purposes
123 | Chapter 3, Medicare Modernization Act Section 935
| Verifying Potential Errors and Setting Priorities
| Determining Whether the Problem Is Widespread or Provider Specific
| Overpayment Procedures
| “Probe” Reviews
124 | Evidence of Medical Necessity: Wheelchair and Power Operated Vehicle Claims
125 | Medical Review Additional Documentation Requests
| Additional Documentation Requests During Prepayment or Postpayment
| Medical Review
Medicare Contractor Beneficiary and Provider Communications
(CMS—Pub. 100-09)
12 | Next Generation Desktop Testing Requirements
13 | Provider Contact Centers Training Program
| Guidelines for Telephone Service
| Staff Development and Training
Medicare Managed Care
(CMS—Pub. 100-16)
66 | Beneficiary Enrollment and Disenrollment Requirements for Medicare Advantage Plans
| Changes in Requirements for Periodic Surveys of Current and Former Enrollees, and in the CMS Method for Calculating Interest on Overpayment and Underpayments to Health Maintenance Organizations, Comprehensive Medical Plans and Health Care Prepayment Plans
67 | Initial Publication of Chapter 1—General Provisions
| Introduction
| Definitions
| Types of Medical Assistance Plans
| Cost Sharing in Enrollment—Related Costs
68 | Revisions to Chapter 12, “Effect of Change of Ownership,” and Chapter 14, “Contract Determination and Appeals”
| Effect of Change of Ownership
| What Constitutes a Change of Ownership
| Address for Sending Notifications to CMS
| When a Novation Agreement Is Required
| Acceptable Novation Agreements
| Contract Determination Notice
| Postponement of the Contract Determination's Effective Date
| Reconsiderations
| Time Frames for Filing a Reconsideration Request
| Parties to the Hearing
| Conduct and Record of a Hearing
| Reopening of Contract Reconsidered Determination or Decision of a Hearing Officer or the Administrator
69 | Beneficiary Enrollment and Disenrollment Requirements for Medicare Advantage Plans
70 | Deletion of MCM Chapter 19—The Enrollment and Payment User's Guide, and Chapter 20—Managed Care and Medical Assistance Business Requirements
71 | Changes in Manual Instructions for Benefits and Beneficiary Protections
| Basic Rules
| Types of Benefits
| Availability and Structure of Plans
| CMS Review and Approval of M+C Benefit—rewritten and relocated to § 20
| Requirements Relating to Medicare Conditions of Participation—renumbered as § 4.10.7
| Provider Networks—renumbered as new § 10.8 and parts of the old § 20, “Original Medicare Covered Benefits”
| CMS Approval of Proposed Plan MA Benefits—old 10.7 revised and located here
| General Guidelines on Benefit Approval
| Screening Mammography, Influenza Vaccine, and Pneumococcal Vaccine
| Inpatient Hospital Rehabilitation Service
| Value-Added Items and Services
| Prescription Drug Discount Programs
| Waiting Periods and Exclusions That Are Not Present in Original Medicare
| Annual Beneficiary Out-of-Pocket Cap
| Drug Benefits
| Drugs That Are Covered Under Original Medicare
| Mid-Year Benefit Enhancements
| Multi-Year Benefits
| Return to Home Skilled Nursing Facility
| Guidance on Acceptable Cost-Sharing and Deductibles
| Homemaker Services
| Caregiver Resource Services
| Electronic Monitoring
| Dentures
| Chiropractic Services
| Cash
| Beauty Parlor
| Transportation
| Safety Items
| Travel for Transplants
| Meals
| Basic Benefits
| Cost-sharing Rules for Medical Assistance Regional Plans
| Supplemental Benefits and Mandatory Supplemental and Optional Supplemental
| Basic Versus Supplemental Benefits
| The Annual Deductible
| General Rule
| Accessing Plan Contracting Providers
| Enrollee Information and Disclosure
| Definitions
| Factors That Influence Service Area Approval
| The “County Integrity Rule”
| General Rule
| Employer Plans
| Basic Rule
| Medicare Benefits Secondary to Group Health Plans and Large Group Health Plans
| Medicare Secondary Payer Rules and State Laws
| Discrimination Against Beneficiaries Prohibited
| Disclosure Requirements at Enrollment (and Annually Thereafter)
| Information Pertaining to a Medical Assistance Organization Changing Their Rules or Provider Network
| Other Information That Is Disclosable Upon Request
| Access and Availability Rules for Coordinated Care Plans
| Emergency and Urgently Needed Services
| Post-Stabilization Care Services
| General Description
| Private Fee-for-Service Plan Terms and Conditions of Participation
| Provider Types—Direct Contracting, Deemed Contracting, Non-Contracting Access to Services
| Payments and Balance Billing
| Advance Notice of Coverage
| Prompt Payment Requirements
| Original Medicare vs. Estimated Payment Amounts
| Table Summarizing Private Fee-for-Service Plan Provider Types and Rules
72 | Changes in Manual Instructions for Intermediate Sanctions
| Types of Intermediate Sanctions
| General Basis for Imposing Intermediate Sanctions on Medical Assistance Organizations
| Imposing Sanctions for Specific Medical Assistance Contract Violations
| Civil Monetary Penalties for Medical Assistance Organizations That Improperly Terminate the Medical Assistance Contract
| CMS Process for Suspending Marketing, Enrollment, and Payment
| Contract Termination by CMS
Medicare Business Partners Systems Security
(CMS—Pub. 100-17)
00 | None
Demonstrations
(CMS—Pub. 100-19)
26 | This Transmittal is rescinded and replaced by Transmittal 27
27 | The Medicare Chronic Care Improvement, “Medicare Health Support,” Program
28 | The Medicare Care Management for High Cost Beneficiaries Demonstration
One-Time Notification
(CMS—Pub. 100-20)
161 | Kansas Blue Cross Blue Shield Carrier Numbering Issue
162 | Instructions for Fiscal Intermediary Standard System and Multi-Carrier System
| Healthcare Integrated General Ledger Accounting System Changes
163 | Qualified Independent Contractor Jurisdictions
164 | Medicare HIPAA Electronic Claims Report—Third Reporting Timeframe Extension
165 | Issued to a specific audience, not posted to Internet/Intranet due to Confidentiality of Instruction
166 | This Transmittal is rescinded and replaced by Transmittal 173
167 | Issued to a specific audience, not posted to Internet/Intranet due to Sensitivity of Instruction
168 | Shared System Maintainer Hours for Resolution of Problems Detected During Health Insurance Portability and Accountability Act Transaction January 2006 Release Testing
169 | Analysis of Systems Improvements to Streamline POS Code Set Updates
170 | Updates to the Coordination of Benefits Agreement Insurance File for Use in the National Claims Crossover Program
171 | Preliminary system updates in preparation for ending the Medicare contingency plan in October 2005
172 | Issued to a specific audience, not posted to Internet/Intranet due to Confidentiality of Instruction
173 | Overnight Oximetry Testing
174 | Fiscal Intermediary Shared System Modification
175 | Common Working File Calculation of Next Eligible Date for Preventive Services
176 | Change of the CareFirst Part A Plan to Highmark in the State of Maryland and Washington, DC
177 | Termination of Existing Crossover Agreements as Trading Partners
| Transition to the National Coordination of Benefits Agreement Program
178 | Issued to a specific audience, not posted to Internet/Intranet due to Confidentiality of Instruction
179 | Calculation of the Interim Payment of Indirect Medical Education Through the Inpatient Prospective Payment Pricer for Hospitals That Received an Increase to Their Full-Time Equivalent Resident Cap Under Section 422 of the Medicare Modernization Act, P.L. 108-173
180 | Issued to a specific audience, not posted to Internet/Intranet due to Confidentiality of Instruction
181 | National Modifier and Condition Code To Be Used To Identify Disaster Disaster Related Claims

Addendum IV.—Regulation Documents Published in the Federal Register
[July through September 2005]
Publication date | FR Vol. 70 page number | CFR parts affected | File code | Title of regulation
July 6, 2005 | 39022 | 414 | CMS-3125-IFC | Medicare Program; Competitive Acquisition of Outpatient Drugs and Biologicals Under Part B.
July 8, 2005 | 39514 |  | CMS-1288-N | Medicare Program; Meeting of the Advisory Panel on Ambulatory Payment Classification (APC) Groups—August 17, 18, and 19, 2005.
July 12, 2005 | 40039 |  | CMS-2212-N | Medicaid Program; Meeting of the Medicaid Commission—July 27, 2005.
July 14, 2005 | 40788 | 484 | CMS-1301-P | Medicare Program; Home Health Prospective Payment System Rate Update for Calendar Year 2006.
July 14, 2005 | 40709 |  | CMS-1288-CN | Medicare Program; Meeting of the Advisory Panel on Ambulatory Payment Classification (APC) Groups—August 17, 18, and 19, 2005; Correction.
July 22, 2005 | 42331 |  | CMS-3142-FN | Medicare Program; Evaluation Criteria and Standards for Quality Improvement Program Contracts.
July 22, 2005 | 42330 |  | CMS-1315-N | Medicare Program; August 22, 2005, Meeting of Practicing Physicians Advisory Council and Request for Nominations.
July 22, 2005 | 42329 |  | CMS-3153-N | Medicare Program; Meeting of the Medicare Coverage Advisory Committee—October 6, 2005.
July 22, 2005 | 42328 |  | CMS-4093-N | Medicare Program; Request for Nominations for the Advisory Panel on Medicare Education.
July 22, 2005 | 42327 |  | CMS-3158-N | Medicare Program; Request for Nominations for Members for the Medicare Coverage Advisory Committee.
July 22, 2005 | 42276 | 146 | CMS-4094-F3 | Amendment to the Interim Final Regulation for Mental Health Parity.
July 25, 2005 | 42674 | 419 and 485 | CMS-1501-P | Medicare Program; Proposed Changes to the Hospital Outpatient Prospective Payment System and Calendar Year 2006 Payment Rates.
August 4, 2005 | 45130 | 418 | CMS-1286-F | Medicare Program; Hospice Wage Index for Fiscal Year 2006.
August 4, 2005 | 45026 | 409, 411, 424, and 489 | CMS-1282-F | Medicare Program; Prospective Payment System and Consolidated Billing for Skilled Nursing Facilities for FY 2006.
August 4, 2005 | 44930 |  | CMS-2220-N | Medicare Program; Meeting of the Medicaid Commission—August 17-18, 2005.
August 4, 2005 | 44879 | 402 | CMS-6019-P | Medicare Program; Revised Civil Money Penalties, Assessments, Exclusions, and Related Appeals Procedures.
August 8, 2005 | 45764 | 405, 410, 411, 413, 414, and 426 | CMS-1502-P | Medicare Program; Revisions to Payment Policies Under the Physician Fee Schedule for Calendar Year 2006.
August 12, 2005 | 47278 | 405, 412, 413, 415, 419, 422, and 485 | CMS-1500-F | Medicare Program; Changes to the Hospital Inpatient Prospective Payment Systems and Fiscal Year 2006 Rates.
August 15, 2005 | 47880 | 412 | CMS-1290-F | Medicare Program; Inpatient Rehabilitation Facility Prospective Payment System for FY 2006.
August 15, 2005 | 47759 | 483 | CMS-3198-P | Medicare and Medicaid Programs; Condition of Participation: Immunization Standard for Long Term Care Facilities.
August 26, 2005 | 50940 | 410 | CMS-3017-IFC | Medicare Program; Conditions for Payment of Power Mobility Devices, including Power Wheelchairs and Power-Operated Vehicles.
August 26, 2005 | 50680 | 419 and 485 | CMS-1501-CN | Medicare Program; Proposed Changes to the Hospital Outpatient Prospective Payment System and Calendar Year 2006 Payment Rates; Correction.
August 26, 2005 | 50375 |  | CMS-4111-N | Medicare Program; Meeting of the Advisory Panel on Medicare Education, September 27, 2005.
August 26, 2005 | 50374 |  | CMS-1330-N | Medicare Program; Town Hall Meeting on the Medicare Provider Feedback Group (MPFG)—September 12, 2005.
August 26, 2005 | 50373 |  | CMS-4106-PN | Medicare Program; Changes in Medicare Advantage Deeming Authority.
August 26, 2005 | 50372 |  | CMS-1309-NC | Medicare and Medicaid Programs; Announcement of an Application From a Hospital Requesting Waiver for Organ Procurement Service Area.
August 26, 2005 | 50358 |  | CMS-2209-N | Medicaid Program; Fiscal Disproportionate Share Hospital Allotments and Disproportionate Share Hospital Institutions for Mental Disease Limits.
August 26, 2005 | 50358 |  | CMS-1486-N | Medicare Program; Announcement of New Members of the Advisory Panel on Ambulatory Payment Classification (APC) Groups.
August 26, 2005 | 50262 | 447 and 455 | CMS-2198-P | Medicaid Program; Disproportionate Share Hospital Payments.
August 26, 2005 | 50214 | 433 | CMS-2210-IFC | Medicaid Program; State Allotments for Payment of Medicare Part B Premiums for Qualifying Individuals: Federal Fiscal Year 2005.
August 26, 2005 | 50214 | 405 | CMS-4064-IFC3 | Medicare Program; Changes to the Medicare Claims Appeal Procedures: Correcting Amendment to a Correcting Amendment.
August 30, 2005 | 51321 | 410 | CMS-6024-P | Medicare Program; Prior Determination for Certain Items and Services.
September 1, 2005 | 52105 |  | CMS-1308-NC | Medicare Program; Withdrawal of Ambulance Fee Schedule Issued in Accordance With Federal District Court Order in Lifestar Ambulance v. United States, No. 4:02-CV-127-1 (M.D. Ga., Jan. 16, 2003)—Medicare Covered Ambulance Services.
September 1, 2005 | 52056 | 405, 410, 411, 413, 414, and 426 | CMS-1502-CN | Medicare Program; Revisions to Payment Policies Under the Physician Fee Schedule for Calendar Year 2006; Correction.
September 1, 2005 | 52023 | 422 | CMS-4069-F3 | Medicare Program; Establishment of the Medicare Advantage Program; Correcting Amendment; Partial Stay of Effectiveness.
September 1, 2005 | 52019 | 403 | CMS-4063-F | Medicare Program; Medicare Prescription Drug Discount Card; Revision of Marketing Rules for Endorsed Drug Card Sponsors.
September 6, 2005 | 52930 | 414 | CMS-1325-IFC2 | Medicare Program; Competitive Acquisition of Outpatient Drugs and Biologicals Under Part B: Interpretation and Correction.
September 16, 2005 | 54751 |  | CMS-5017-N | Medicare Program; Medicare Health Care Quality (MHCQ) Demonstration Programs.
September 23, 2005 | 55905 |  | CMS-3159-N | Medicare Program; Meeting of the Medicare Coverage Advisory Committee—November 29, 2005.
September 23, 2005 | 55903 |  | CMS-1269-N5 | Medicare Program; Emergency Medical Treatment and Labor Act (EMTALA) Technical Advisory Group (TAG) Meeting—October 26, 2005 Through October 28, 2005.
September 23, 2005 | 55897 |  | CMS-8027-N | Medicare Program; Medicare Part B Monthly Actuarial Rates, Premium Rate, and Annual Deductible for Calendar Year 2006.
September 23, 2005 | 55896 |  | CMS-8025-N | Medicare Program; Part A Premium for Calendar Year 2006 for the Uninsured Aged and for Certain Disabled Individuals Who Have Exhausted Other Entitlement.
September 23, 2005 | 55887 |  | CMS-1307-GNC | Medicare Program; Criteria and Standards for Evaluating Intermediary, Carrier, and Durable Medical Equipment, Prosthetics, Orthotics, and Supplies (DMEPOS) Regional Carrier Performance During Fiscal Year 2006.
September 23, 2005 | 55885 |  | CMS-8026-N | Medicare Program; Inpatient Hospital Deductible and Hospital and Extended Care Services Coinsurance Amounts for Calendar Year 2006.
September 23, 2005 | 55863 |  | CMS-9032-N | Medicare and Medicaid Programs; Quarterly Listing of Program Issuances-April Through June 2005.
September 23, 2005 | 55862 |  | CMS-2227-PN | Medicare and Medicaid Programs; Application by the Accreditation Commission of Healthcare for Deeming Authority for Home Health Agencies.
September 23, 2005 | 55812 | 447 and 455 | CMS-2198-CN | Medicaid Program; Disproportionate Share Hospital Payments.
September 29, 2005 | 56901 |  | CMS-2230-FN | State Children's Health Insurance Program (SCHIP); Redistribution of Unexpended SCHIP Funds From the Appropriation for Fiscal Year 2002.
September 30, 2005 | 57376 | 505 | CMS-1320-P | Medicare Program; Health care Infrastructure Improvement Program; Forgiveness of Indebtness.
September 30, 2005 | 57368 | 505 | CMS-1287-IFC | Medicare Program; Health Care Infrastructure Improvement Program; Selection Criteria of Loan Program for Qualifying Hospitals Engaged in Cancer-Related Health Care.
September 30, 2005 | 57300 |  | CMS-1307-CN | Medicare Program; Criteria and Standards for Evaluating Intermediary, Carrier, and Durable Medical Equipment, Prosthetics, Orthotics, and Supplies (DMEPOS) Regional Carrier Performance During Fiscal Year 2006; Correction Notice.
September 30, 2005 | 57297 |  | CMS-3144-NC | Medicare Program; Calendar Year 2005 Review of Appropriateness of Payment Amounts for New Technology Intraocular Lenses (NTIOLs) Furnished by Ambulatory Surgical Centers (ASCs).
September 30, 2005 | 57296 |  | CMS-1269-N6 | Medicare Program; Emergency Medical Treatment and Labor Act (EMTALA) Technical Advisory Group (TAG): Announcement of a New Member.
September 30, 2005 | 57174 | 418 | CMS-1286-CN | Medicare Program; Hospice Wage Index for Fiscal Year 2006.
September 30, 2005 | 57166 | 412 | CMS-1290-CN | Medicare Program; Inpatient Rehabilitation Facility Prospective Payment System for FY 2006; Correction.
September 30, 2005 | 57164 | 411 and 424 | CMS-1282-CN | Medicare Program; Prospective Payment System and Consolidated Billing for Skilled Nursing Facilities; Correction.
September 30, 2005 | 57161 | 405, 412, 413, 415, 419, 422, and 485 | CMS-1500-CN | Medicare Program; Changes to the Hospital Inpatient Prospective Payment Systems and Fiscal Year 2006 Rates; Correction.

Addendum V—National Coverage Determinations

[July Through September 2005]

A national coverage determination (NCD) is a determination by the Secretary with respect to whether or not a particular item or service is covered nationally under Title XVIII of the Social Security Act, but does not include a determination of what code, if any, is assigned to a particular item or service covered under this title, or determination with respect to the amount of payment made for a particular item or service so covered. We include below all of the NCDs that were issued during the quarter covered by this notice. The entries below include information concerning completed decisions as well as sections on program and decision memoranda, which also announce pending decisions or, in some cases, explain why it was not appropriate to issue an NCD. We identify completed decisions by the section of the NCDM in which the decision appears, the title, the date the publication was issued, and the effective date of the decision. Information on completed decisions as well as pending decisions has also been posted on the CMS Web site at http://cms.hhs.gov/coverage.

National Coverage Determinations

[July Through September 2005]

There were no new NCDs posted during this time period.

Addendum VI—FDA-Approved Category B IDEs

[July Through September 2005]

Under the Food, Drug, and Cosmetic Act (21 U.S.C. 360c) devices fall into one of three classes. To assist CMS under this categorization process, the FDA assigns one of two categories to each FDA-approved IDE. Category A refers to experimental IDEs, and Category B refers to non-experimental IDEs. To obtain more information about the classes or categories, please refer to the Federal Register notice published on April 21, 1997 (62 FR 19328).

The following list includes all Category B IDEs approved by FDA during the second quarter, July through September 2005.

IDE/Category

G040204

G050005

G050016

G050028

G050035

G050036

G050041

G050044

G050069

G050072

G050082

G050086

G050103

G050107

G050108

G050112

G050113

G050114

G050117

G050119

G050120

G050122

G050123

G050125

G050127

G050129

G050130

G050132

G050133

G050134

G050135

G050136

G050141

G050144

G050145

G050146

G050147

G050148

G050149

G050153

G050155

G050158

G050160

G050161

G050163

G050165

G050166

G050170

G050172

G050174

G050177

G050178

G050180

G050181

G050182

G050183

Addendum VII—Approval Numbers for Collections of Information

Below we list all approval numbers for collections of information in the referenced sections of CMS regulations in Title 42; Title 45, Subchapter C; and Title 20 of the Code of Federal Regulations, which have been approved by the Office of Management and Budget:

OMB Control Numbers
[Approved CFR Sections in Title 42, Title 45, and Title 20 (Note: Sections in Title 45 are preceded by “45 CFR,” and sections in Title 20 are preceded by “20 CFR”)]
OMB number | Approved CFR sections
0938-0008 | 414.40, 424.32, 424.44
0938-0022 | 413.20, 413.24, 413.106
0938-0023 | 424.103
0938-0025 | 406.28, 407.27
0938-0027 | 486.100-486.110
0938-0033 | 405.807
0938-0035 | 407.40
0938-0037 | 413.20, 413.24
0938-0041 | 408.6, 408.22
0938-0042 | 410.40, 424.124
0938-0045 | 405.711
0938-0046 | 405.2133
0938-0050 | 413.20, 413.24
0938-0062 | 431.151, 435.1009, 440.220, 440.250, 442.1, 442.10-442.16, 442.30, 442.40, 442.42, 442.100-442.119, 483.400-483.480, 488.332, 488.400, 498.3-498.5
0938-0065 | 485.701-485.729
0938-0074 | 491.1-491.11
0938-0080 | 406.7, 406.13
0938-0086 | 420.200-420.206, 455.100-455.106
0938-0101 | 430.30
0938-0102 | 413.20, 413.24
0938-0107 | 413.20, 413.24
0938-0146 | 431.800-431.865
0938-0147 | 431.800-431.865
0938-0151 | 493.1357, 493.1363, 493.1405, 493.1406, 493.1411, 493.1417, 493.1423, 493.1443, 493.1449, 493.1455, 493.1461, 493.1462, 493.1469, 493.1483, 493.1489, 493.1491
0938-0155 | 405.2470
0938-0170 | 493.1269-493.1285
0938-0193 | 430.10-430.20, 440.167
0938-0202 | 413.17, 413.20
0938-0214 | 411.25, 489.2, 489.20
0938-0236 | 413.20, 413.24
0938-0242 | 442.30, 488.26
0938-0245 | 407.10, 407.11
0938-0246 | 431.800-431.865
0938-0251 | 406.7
0938-0266 | 416.41, 416.47, 416.48, 416.43
0938-0267 | 410.65, 485.56, 485.58, 485.60, 485.64, 485.66
0938-0269 | 412.116, 412.632, 413.64, 413.350, 484.245
0938-0270 | 405.376
0938-0272 | 440.180, 441.300-441.305
0938-0273 | 485.701-485.729
0938-0279 | 424.5
0938-0287 | 447.31
0938-0296 | 413.170, 413.184
0938-0301 | 413.20, 413.24
0938-0302 | 418.22, 418.24, 418.28, 418.56, 418.58, 418.70, 418.74, 418.83, 418.96, 418.100
0938-0313 | 489.11, 489.20
0938-0328 | 482.12, 482.13, 482.21, 482.22, 482.27, 482.30, 482.41, 482.43, 482.45, 482.53, 482.56, 482.57, 482.60, 482.61, 482.62, 485.618, 485.631
0938-0334 | 491.9, 491.10
0938-0338 | 486.104, 486.106, 486.110
0938-0354 | 441.60
0938-0355 | 442.30, 488.26
0938-0357 | 409.40-409.50, 410.36, 410.170, 411.4-411.15, 421.100, 424.22, 484.18, 489.21
0938-0358 | 412.20-412.30
0938-0359 | 412.40-412.52
0938-0360 | 488.60
0938-0365 | 484.10, 484.11, 484.12, 484.14, 484.16, 484.18, 484.20, 484.36, 484.48, 484.52
0938-0372 | 414.330
0938-0378 | 482.60-482.62
0938-0379 | 442.30, 488.26
0938-0382 | 442.30, 488.26
0938-0386 | 405.2100-405.2171
0938-0391 | 488.18, 488.26, 488.28
0938-0426 | 476.104, 476.105, 476.116, 476.134
0938-0429 | 447.53
0938-0443 | 473.18, 473.34, 473.36, 473.42
0938-0444 | 1004.40, 1004.50, 1004.60, 1004.70
0938-0445 | 412.44, 412.46, 431.630, 456.654, 466.71, 466.73, 466.74, 466.78
0938-0447 | 405.2133
0938-0448 | 405.2133, 45 CFR 5, 5b; 20 CFR Parts 401, 422 Subpart E 0938-0449 440.180, 441.300-441.310
0938-0454 | 424.20
0938-0456 | 412.105
0938-0463 | 413.20, 413.24, 413.106
0938-0467 | 431.17, 431.306, 435.910, 435.920, 435.940-435.960
0938-0469 | 417.126, 422.502, 422.516
0938-0470 | 417.143, 417.800-417.840, 422.6
0938-0477 | 412.92
0938-0484 | 424.123
0938-0501 | 406.15
0938-0502 | 433.138
0938-0512 | 486.304, 486.306, 486.307
0938-0526 | 475.102, 475.103, 475.104, 475.105, 475.106
0938-0534 | 410.38, 424.5
0938-0544 | 493.1-493.2001
0938-0564 | 411.32
0938-0565 | 411.20-411.206
0938-0566 | 411.404, 411.406, 411.408
0938-0573 | 412.230, 412.256
0938-0578 | 447.534
0938-0581 | 493.1-493.2001
0938-0599 | 493.1-493.2001
0938-0600 | 405.371, 405.378, 413.20
0938-0610 | 484.10, 489.102
0938-0612 | 493.801, 493.803, 493.1232, 493.1233, 493.1234, 493.1235, 493.1236, 493.1239, 493.1241, 493.1242, 493.1249, 493.1251, 493, 1252, 493.1253, 493.1254, 493.1255, 493.1256, 493.1261, 493.1262, 493.1263, 493.1269, 493.1273, 493.1274, 493.1278, 493.1283, 493.1289, 493.1291, 493.1299
0938-0618 | 433.68, 433.74, 447.272
0938-0653 | 493.1771, 493.1773, 493.1777
0938-0657 | 405.2110, 405.2112
0938-0658 | 405.2110, 405.2112
0938-0659 | 456.700, 456.705, 456.709, 456.711, 456.712
0938-0667 | 482.12, 488.18, 489.20, 489.24
0938-0679 | 410.38
0938-0685 | 410.32, 410.71, 413.17, 424.57, 424.73, 424.80, 440.30, 484.12
0938-0686 | 493.551-493.557
0938-0688 | 486.304, 486.306, 486.307, 486.310, 486.316, 486.318, 486.325
0938-0691 | 412.106
0938-0692 | 466.78, 489.20, 489.27
0938-0701 | 422.152
0938-0702 | 45 CFR 146.111, 146.115, 146.117, 146.150, 146.152, 146.160, 146.180
0938-0703 | 45 CFR 148.120, 148.124, 148.126, 148.128
0938-0713 | 441.16, 489.66, 489.67
0938-0714 | 411.370-411.389
0938-0717 | 424.57
0938-0721 | 410.33
0938-0723 | 421.300-421.318
0938-0730 | 405.410, 405.430, 405.435, 405.440, 405.445, 405.455, 410.61, 415.110, 424.24
0938-0732 | 417.126, 417.470
0938-0734 | 45 CFR 5b
0938-0739 | 413.337, 413.343, 424.32, 483.20
0938-0742 | 422.300-422.312
0938-0749 | 424.57
0938-0753 | 422.000-422.700
0938-0754 | 441.151, 441.152
0938-0758 | 413.20, 413.24
0938-0760 | 484 Subpart E, 484.55, 484.205, 484.245, 484.250
0938-0761 | 484.11, 484.20
0938-0763 | 422.1-422.10, 422.50-422.80, 422.100-422.132, 422.300-422.312, 422.400-422.404, 422.560-422.622
0938-0770 | 410.2
0938-0778 | 422.64, 422.111
0938-0779 | 417.126, 417.470, 422.64, 422.210
0938-0781 | 411.404-411.406, 484.10
0938-0786 | 438.352, 438.360, 438.362, 438.364
0938-0783 | 422.66, 422.562, 422.564, 422.568, 422.570, 422.572, 422.582, 422.584, 422.586, 422.590, 422.594, 422.602, 422.612, 422.618, 422.619, 422.620, 422.622
0938-0787 | 406.28, 407.27
0938-0790 | 460.12, 460.22, 460.26, 460.30, 460.32, 460.52, 460.60, 460.70, 460.71, 460.72, 460.74, 460.80, 460.82, 460.98, 460.100, 460.102, 460.104, 460.106, 460.110, 460.112, 460.116, 460.118, 460.120, 460.122, 460.124, 460.132, 460.152, 460.154, 460.156, 460.160, 460.164, 460.168, 460.172, 460.190, 460.196, 460.200, 460.202, 460.204, 460.208, 460.210
0938-0792 | 491.8, 491.11
0938-0798 | 413.24, 413.65, 419.42
0938-0802 | 419.43
0938-0818 | 410.141, 410.142, 410.143, 410.144, 410.145, 410.146, 414.63
0938-0829 | 422.568
0938-0832 | Parts 489 and 491
0938-0833 | 483.350-483.376
0938-0841 | 431.636, 457.50, 457.60, 457.70, 457.340, 457.350, 457.431, 457.440, 457.525, 457.560, 457.570, 457.740, 457.750, 457.810, 457.940, 457.945, 457.965, 457.985, 457.1005, 457.1015, 457.1180
0938-0842 | 412.23, 412.604, 412.606, 412.608, 412.610, 412.614, 412.618, 412.626, 413.64
0938-0846 | 411.352-411.361
0938-0857 | Part 419
0938-0860 | 413.65, 419.42
0938-0866 | 45 CFR Part 162
0938-0872 | 413.337, 483.20,
0938-0873 | 422.152
0938-0874 | 45 CFR Parts 160 and 162
0938-0878 | Part 422 Subpart F & G
0938-0883 | 45 CFR Parts 160 and 164
0938-0884 | 405.940
0938-0887 | 45 CFR 148.316, 148.318, 148.320
0938-0897 | 412.22, 412.533
0938-0907 | 412.230, 412.304, 413.65
0938-0910 | 422.620, 422.624, 422.626
0938-0911 | 426.400, 426.500
0938-0916 | 483.16
0938-0920 | 438.6, 438.8, 438.10, 438.12, 438.50, 438.56, 438.102, 438.114, 438.202, 438.206, 438.207, 438.240, 438.242, 438.402, 438.404, 438.406, 438.408, 438.410, 438.414, 438.416, 438.710, 438.722, 438.724, 438.810
0938-0921 | 414.804
0938-0931 | 45 CFR Part 142.408, 162.408, and 162.406
0938-0933 | 438.50
0938-0934 | 403.766
0938-0936 | 423
0938-0940 | 484 and 488
0938-0944 | 422.250, 422.252, 422.254, 422.256, 422.258, 422.262, 422.264, 422.266, 422.270, 422.300, 422.304, 422.306, 422.308, 422.310, 422.312, 422.314, 422.316, 422.318, 422.320, 422.322, 422.324, 423.251, 423.258, 423.265, 423.272, 423.279, 423.286, 423.293, 423.301, 423.308, 423.315, 423.322, 423.329, 423.336, 423.343, 423.346, 423.350
0938-0950 | 405.910
0938-0951 | 423.48
0938-0953 | 405.1200 and 405.1202
0938-0954 | 414.906, 414.908, 414.914, 414.916
0938-0957 | Part 423 Subpart R

Addendum VIII—Medicare-Approved Carotid Stent Facilities [July Through September 2005]

On March 17, 2005, we issued our decision memorandum on carotid artery stenting. We determined that carotid artery stenting with embolic protection is reasonable and necessary only if performed in facilities that have been determined to be competent in performing the evaluation, procedure, and follow-up necessary to ensure optimal patient outcomes. We have created a list of minimum standards for facilities modeled in part on professional society statements on competency. All facilities must at least meet our standards in order to receive coverage for carotid artery stenting for high risk patients.

Effective Date—July 7, 2005

Antelope Valley Hospital, 1600 West Avenue J, Lancaster, CA 93534

Medicare Provider #050056

Baptist St. Anthony's Hospital, 1600 Wallace Boulevard, Amarillo, TX 79106

Medicare Provider #450231

Dayton Heart Hospital, 707 S. Edwin Moses Boulevard, Dayton, OH 45408

Medicare Provider #360253

Duke Health Raleigh Hospital, 3400 Wake Forest Road, Raleigh, NC 27609

Medicare Provider #340073

East Pasco Medical Center, 7050 Gall Boulevard, Zephyrhills, FL 33541-1399

Medicare Provider #100046

FirstHealth Moore Regional Hospital, 1555 Memorial Drive, P.O. Box 3000 Pinehurst, NC 28374

Medicare Provider #340115

The George Washington University Hospital, 900 23rd Street, NW., Washington, DC 20037

Medicare Provider #090001

Heart Hospital of Lafayette, 1105 Kaliste Saloom Road, Lafayette, LA 70508

Medicare Provider #190263

Johns Hopkins Hospital, 600 North Wolfe Street, Baltimore, MD 21287-1629

Medicare Provider #210009

Kingman Regional Medical Center, 3269 Stockton Hill Road, Kingman, AZ 86401

Medicare Provider #030055

Lafayette General Medical Center, 1214 Coolidge Street, P.O. Box 52009, Lafayette, LA 70505

Medicare Provider #190002

Manatee Memorial Hospital and Health Systems, 206 2nd Street East, Bradenton, FL 34208

Medicare Provider #100035

Mercy Health System, 1000 Mineral Point Avenue, P.O. Box 5003, Janesville, WI 53547-5003

Medicare Provider #520066

The Methodist Hospital, 6565 Fannin Street, Houston, TX 77030

Medicare Provider #450358

Mohawk Valley Vascular Center of Faxton, St. Luke's Healthcare, 1656 Champlain Avenue, Utica, NY 13502

Medicare Provider #330044

Northwest Medical Center, 2801 North State Road 7, Margate, FL 33063-9002

Medicare Provider #100189

Oakwood Hospital and Medical Center, 18101 Oakwood Boulevard, P.O. Box 2500, Dearborn, MI 48123-2500

Medicare Provider #230020

Rhode Island Hospital, 593 Eddy Street, Providence, RI 02903

Medicare Provider #041007

Scripps Green Hospital, 10666 North Torrey Pines Road, La Jolla, CA 92037-9100

Medicare Provider #050424

St. Cloud Hospital, 1406 Sixth Avenue North, St. Cloud, MN 56303-1901

Medicare Provider #240036

St. Joseph's Regional Medical Center, 703 Main Street, Paterson, NJ 07530

Medicare Provider #310019

St. Luke's Hospital, 5901 Monclova Road, Maumee, OH 43537-1899

Medicare Provider #360090

St. Vincent Hospital, 835 S. Van Buren Street, P.O. Box 13508, Green Bay, WI 54307-3508

Medicare Provider #520075

St. Vincent's Medical Center, 1800 Barrs Street, Jacksonville, FL 32204

Medicare Provider #100040

Stormont-Vail HealthCare, 1500 S.W. 10th Avenue, Topeka, KS 66604-1353

Medicare Provider #170086

Tomball Regional Hospital, 605 Holderrieth Street, Tomball, TX 77375

Medicare Provider #450670

Trinity Mother Frances Health System, 800 E. Dawson, Tyler, TX 75701

Medicare Provider #450102

Effective Date—July 15, 2005

Allen Memorial Hospital, 1825 Logan Avenue, Waterloo, IA 50703-1999

Medicare Provider #160110

Alta Bates Summit Medical Center, Alta Bates Campus, 2450 Ashby Avenue Berkley, CA 94705

Medicare Provider #050305

Alta Bates Summit Medical Center, Summit Campus, 350 Hawthorne Avenue, Oakland, CA 94609

Medicare Provider #050043

Banner Baywood Heart Hospital, 6750 East Baywood Avenue, Mesa, AZ 85206

Medicare Provider #030105

Battle Creek Health System, 300 North Avenue, Battle Creek, MI 49016

Medicare Provider #230075

Beth Israel Deaconess Medical Center, 330 Brookline Avenue, Boston, MA 02215

Medicare Provider #220086

BryanLGH Medical Center, 1600 South 48th Street, Lincoln, NE 68506-1299

Medicare Provider #280003

Deborah Heart & Lung Center, 200 Trenton Road, Browns Mills, NJ 08015

Medicare Provider #310031

Erie County Medical Center Corporation, 462 Grinder Street, Buffalo, NY 14215

Medicare Provider #330219

Fairview Southdale Hospital, 6401 France Avenue, Edina, MN 55435

Medicare Provider #240078

Gratiot Medical Center, 300 East Warwick Drive, Alma, MI 48801-1096

Medicare Provider #230030

Harbor Hospital, 3001 South Hanover Street, Baltimore, MD 21225-1290

Medicare Provider #210034

Holmes Regional Medical Center, 1350 South Hickory Street, Melbourne, FL 32901

Medicare Provider #100019

Holy Cross Hospital, 4725 North Federal Highway, Fort Lauderdale, FL 33308

Medicare Provider #100073

Marion General Hospital, 1000 McKinley Park Drive, Marion, OH 43301

Medicare Provider #360011

Mease Countryside Hospital, 3231 McMullen Booth Road, Safety Harbor, FL 34695

Medicare Provider #100265

Mercy General Hospital, 4001 J Street, P.O. Box 19245, Sacramento, CA 95819-9990

Medicare Provider #050017

OU Medical Center, 1200 Everett Drive, Oklahoma City, OK 73104

Medicare Provider #370093

Pennsylvania Hospital of the University of Pennsylvania Health System, 800 Spruce Street, Philadelphia, PA 19071-6192

Medicare Provider #390226

Provena Mercy Medical Center, 1325 North Highland Avenue, Aurora, IL 60506

Medicare Provider #140174

Reading Hospital and Medical Center, P.O. Box 16052, Reading, PA 19612-6052

Medicare Provider #390044

Regional Medical Center of Hopkins County, 900 Hospital Drive, Madisonville, KY 42431

Medicare Provider #180093

Sacred Heart Medical Center, 101 West 8th Avenue, P.O. Box 2555, Spokane, WA 99220-2555

Medicare Provider #500054

Scripps Mercy Hospital, 4077 Fifth Avenue, San Diego, CA 92103

Medicare Provider #050077

Sisters of Charity Providence Hospitals, 2435 Forest Drive, Columbia, SC 29204

Medicare Provider #420026

Tucson Medical Center, 5301 East Grant Road, Tucson, AZ 85712

Medicare Provider #030006

UCLA Medical Center, 10833 Le Conte Avenue, Los Angeles, CA 90095-1730

Medicare Provider #050262

University of Colorado Hospital, 4200 East 9th Avenue, Denver, CO 80262

Medicare Provider #060024

Effective Date—July 20, 2005

Christus St. Patrick Hospital, 524 South Ryan Street, Lake Charles, LA 70601

Medicare Provider #190027

Condell Medical Center, 801 South Milwaukee Avenue, Libertyville, IL 60048

Medicare Provider #140202

Florida Hospital Ormond Memorial, 875 Sterthaus Avenue, Ormond Beach, FL 32174

Medicare Provider #100169

Lakewood Hospital, 14519 Detroit Avenue, Lakewood, OH 44107

Medicare Provider #360212

Loma Linda University Medical Center, 11234 Anderson Street, P.O. Box 2000, Loma Linda, CA 92354

Medicare Provider #050327

Miami Valley Hospital, Medical Imaging, One Wyoming Street, Dayton, OH 45409-2793

Medicare Provider #360051

National Park Medical Center, 1910 Malvern Avenue, Hot Springs, AR 71901

Medicare Provider #040078

Newark Beth Israel Medical Center, 201 Lyons Avenue, Newark, NJ 07112

Medicare Provider #310002

Salina Regional Health Center, P.O. Box 5080, Salina, KS 67402-5080

Medicare Provider #170012

Scott and White Memorial Hospital and Scott, Sherwood and Brindley Foundation, 2401 South 31st Street, Temple, TX 76508

Medicare Provider #450054

Sentra Norfolk General Hospital, 600 Gersham Drive, Norfolk, VA 23507

Medicare Provider #490007

Spartanburg Regional Medical Center, 101 East Wood Street, Spartanburg, SC 29303

Medicare Provider #420007

St. Francis Hospital, 3237 South 16th Street, Milwaukee, WI 53215-4592

Medicare Provider #520078

St. Vincent Indianapolis Hospital, 2001 West 86th Street, Indianapolis, IN 46260

Medicare Provider #150084

Tulsa Regional Medical Center, 744 West 9th, Tulsa, OK 74127

Medicare Provider #370078

University Hospital, SUNY Upstate Medical University, 750 East Adams Street, Syracuse, NY 13210

Medicare Provider #330241

UT Southwestern University Hospitals—Zale Lipshy, 5151 Harry Hines Boulevard, Dallas, TX 75390

Medicare Provider #450766

UT Southwestern University Hospitals—St. Paul, 5909 Harry Hines Boulevard, Dallas, TX 75390

Medicare Provider #450044

Effective Date—July 22, 2005

Forrest General Hospital, 6051 Highway 49, Hattiesburg, MS 39401-7243

Medicare Provider #250078

Hamilton Medical Center, P.O. Box 1168, Dalton, GA 30722-1168

Medicare Provider #110001

Heritage Valley Health System, The Medical Center, 100 Dutch Ridge Road, Beaver, PA 15009-9700

Medicare Provider #390036

Northeast Georgia Medical Center, 743 Spring Street, Gainesville, GA 30501

Medicare Provider #110029

Wishard Health Services, 1001 West Tenth Street, Indianapolis, IN 46202

Medicare Provider #150024

Effective Date—July 27, 2005

East Texas Medical Center Athens, 2000 South Palestine, Athens, TX 75751

Medicare Provider #450389

Glendale Adventist Medical Center, 1509 Wilson Terrace, Glendale, CA 91206

Medicare Provider #050239

Lahey Clinic Medical Center, Inc., 41 Mall Road, Burlington, MA 01805

Medicare Provider #220171

Saint Joseph Hospital, One Saint Joseph Drive, Lexington, KY 40504

Medicare Provider #180010

St. Mary's Medical Center, 2900 First Avenue, Huntington, WV 25702

Medicare Provider #510007

Yakima Regional Medical and Cardiac Center, 110 South 9th Avenue, Yakima, WA 98902

Medicare Provider #500012

Effective Date—August 1, 2005

Alegent Health Bergan Mercy Medical Center, 7500 Mercy Rd., Omaha, NE 68124-9832

Medicare Provider #280060

Bon Secours DePaul Medical Center, 150 Kingsley Ln., Norfolk, VA 23505

Medicare Provider #490011

Hendrick Medical Center, 1900 Pine St., Abilene, TX 79601-2316

Medicare Provider #450229

Nebraska Heart Hospital, 7500 S. 91st St., Lincoln, NE 68526

Medicare Provider #280128

Singing River Hospital System, 3109 Bienville Blvd., Ocean Springs, MS 39564

Medicare Provider #250040

St. Peter's Hospital,315 South Manning Blvd., Albany, NY 12208

Medicare Provider #330057

University of California San Francisco Medical Center, 500 Parnassus Ave., San Francisco, CA 94143-0296

Medicare Provider #050454

Effective Date—August 4, 2005

Bowling Green Warren County Community Hospital Corp. d/b/a The Medical Center, 250 Park Street, P.O. Box 90010, Bowling Green, KY 42102-9010

Medicare Provider #180013

Carson-Tahoe Hospital, 775 Fleischmann Way, P.O. Box 2168, Carson City, NV 89702-2168

Medicare Provider #290010

Heart Hospital of Austin, 3801 N. Lamar Boulevard, Austin, TX 78756

Medicare Provider #450824

Indiana Heart Hospital, 8040 Clearvista Parkway, Suite 200, Indianapolis, IN 46256

Medicare Provider #150154

JFK Medical Center, 5301 South Congress Avenue, Atlantis, FL 33462

Medicare Provider #100080

Sierra Vista Regional Medical Center, 1010 Murray Avenue, San Luis Obispo, CA 93405

Medicare Provider #050506

St. Joseph Hospital, 1100 West Stewart Drive, P.O. Box 5600 Orange, CA 92863-5600

Medicare Provider #050069

St. Luke's Cornwall Hospital, 70 Dubois Street, Newburgh, NY 12550

Medicare Provider #330264

UCI Medical Center, 101 The City Drive South, Orange, CA 92868

Medicare Provider #050348

Effective Date—August 8, 2005

Lynchburg General Hospital, 1920 Atherholt Road, Lynchburg, VA 24501-1104

Medicare Provider #490021

Mercy Hospitals Bakersfield, 2215 Truxtun Avenue, P.O. Box 119, Bakersfield, CA 93302

Medicare Provider #050295

Virginia Regional Medical Center, 901 Ninth Street North, Virginia, MN 55792

Medicare Provider #240084

Effective Date—August 9, 2005

Columbia Hospital, 2201 45th Street, West Palm Beach, FL 33407

Medicare Provider #100234

Fairview Hospital, 14519 Detroit Avenue, Fairview, OH 44107

Medicare Provider #360077

Forum Health-Northside Medical Center, Cardiovascular Administration, 500 Gypsy Lane, Youngstown, OH 44501

Medicare Provider #360141

Mercy Hospital, 144 State Street, Portland, ME 04101

Medicare Provider #020008

New Hanover Regional Medical Center, 2131 South 17th Street, P.O. Box 9000, Wilmington, NC 28402-9000

Medicare Provider #340141

Sharp Grossmont Hospital, P.O. Box 158, La Mesa, CA 91944-0158

Medicare Provider #050026

Torrance Memorial Medical Center, 3330 Lomita Boulevard, Torrance, CA 90505-5073

Medicare Provider #050351

Effective Date—August 16, 2005

Englewood Hospital and Medical Center, 350 Engle Street, Englewood, NJ 07631

Medicare Provider #310045

Mobile Infirmary Medical Center, Five Mobile Infirmary Circle, Mobile, AL 36607

Medicare Provider #010113

Ocean Medical Center, 425 Jack Martin Boulevard, Brick, NJ 08724

Medicare Provider #310052

OSF St. Joseph Medical Center, 200 East Washington Street, Bloomington, IL 61701

Medicare Provider #140162

St. Luke's Medical Center, LP, 1800 East Van Buren Street, Phoenix, AZ 85006

Medicare Provider #030037

Effective Date—August 19, 2005

Inova Alexandria Hospital, 4320 Seminary Road, Alexandria, VA 22304

Medicare Provider #490040

Inova Fairfax Hospital, Inova Fairfax Hospital for Children and Inova Heart and Vascular Institute, 3300 Gallows Road, Falls Church, VA 22042-3300

Medicare Provider #490063

Milford Hospital, 300 Seaside Avenue, P.O. Box 3015, Milford, CT 06460-0815

Medicare Provider #070019

Our Lady of the Lakes Regional Medical Center, 5000 Hennessy Boulevard, Baton Rouge, LA 70808

Medicare Provider #190064

Summit Hospital, 17000 Medical Center Drive, Baton Rouge, LA 70816

Medicare Provider #190202

University of Michigan Health System, 1500 E. Medical Center Drive, Ann Arbor, MI 48109-0060

Medicare Provider #230046

Effective Date—August 22, 2005

Baptist Hospital of Miami, 8900 North Kendall Drive, Miami, FL 33176

Medicare Provider #100008

Camden-Clark Memorial Hospital, 800 Garfield Avenue, P.O. Box 718, Parkersburg, WV 26102

Medicare Provider #510058

HCA Dauterive Hospital, 600 North Lewis Avenue, New Iberia, LA 70563

Medicare Provider #190003

Kadlec Medical Center, 888 Swift Boulevard, Richland, WA 99352

Medicare Provider #500058

Lancaster Community Hospital, 43830 10th Street West, Lancaster, CA 93534

Medicare Provider #050204

Mercy Hospital, 4050 Coon Rapids Boulevard, Coon Rapids, MN 55433

Medicare Provider #240115

Montefiore Medical Center, 111 East 210th Street, New York, NY 10467

Medicare Provider #330059

Morristown Memorial Hospital, 100 Madison Avenue, Morristown, NJ 07962-1956

Medicare Provider #310015

Palmetto Health Richland, 5 Richland Medical Park Drive, Columbia, SC 29203-6897

Medicare Provider #420018

Saint Elizabeth Regional Medical Center, 555 South 70th Street, Lincoln, NE 68510

Medicare Provider #280020

Springhill Medical Center, 3710 Dauphine Street, Mobile, AL 36608

Medicare Provider #010144

Unity Hospital, 550 Osborne Road, Fridley, MN 55432

Medicare Provider #240132

Wilson Memorial Regional Medical Center, 33-57 Harrison Street, Johnson City, NY 13790

Medicare Provider #330394

Effective Date—August 23, 2005

Jackson Madison County General Hospital, 708 West Forest Avenue, Jackson, TN 38301-3956

Medicare Provider #044002

Leesburg Regional Medical Center, 600 E. Dixie Avenue, Leesburg, FL 34748

Medicare Provider #100084

Meriter Hospitals, Inc., 202 South Park Street, Madison, WI 53715

Medicare Provider #520089

Poplar Bluff Regional Medical Center, 2620 North Westwood Boulevard, Poplar Bluff, MO 63901

Medicare Provider #260119

Saint Francis Hospital, 241 North Road, Poughkeepsie, NY 12601-1399

Medicare Provider #330067

The Western Pennsylvania Hospital, 4800 Friendship Avenue, Pittsburg, PA 15224

Medicare Provider #390090

Effective Date—August 24, 2005

Halifax Medical Center, 303 N. Clyde Morris Boulevard, Daytona Beach, FL 32114

Medicare Provider #100017

Jackson Hospital, 1725 Pine Street, Montgomery, AL 36106-1117

Medicare Provider #010024

Marietta Memorial Hospital, 401 Matthew Street, Marietta, OH 45750

Medicare Provider #360147

Meadowcrest Hospital, 2500 Belle Chasse Highway, Gretna, LA 70056

Medicare Provider #190152

Medical Center Hospital, P.O. Box 7239, Odessa, TX 79760-7239

Medicare Provider #450132

REX Healthcare, 4420 Lake Boone Trail, Raleigh, NC 27607

Medicare Provider #340114

St. John's Mercy Medical Center, 615 South New Ballas Road, St. Louis, MO 63141

Medicare Provider #260020

Effective Date—August 26, 2005

Candler Hospital, 5353 Reynolds Street, Savannah, GA 31405

Medicare Provider #110024

CHRISTUS Santa Rosa, 333 North Santa Rosa Street, San Antonio, TX 78207-3198

Medicare Provider #450237

Durham Regional Hospital, 3643 North Roxboro Road, Durham, NC 27704

Medicare Provider #344155

Hillcrest Medical Center, 1120 South Utica Avenue, Tulsa, OK 74104

Medicare Provider #370001

Houston Northwest Medical Center, 710 FM 1960 West, Houston, TX 77090

Medicare Provider #450638

Mercy Hospital, 3663 South Miami Avenue, Miami, FL 33133

Medicare Provider #100061

Saint Barnabas Medical Center, Old Short Hills Road, Livingston, NJ 07039

Medicare Provider #310076

Effective Date—August 31, 2005

Columbia St. Mary's Hospital Milwaukee, Inc., 2323 North Lake Drive, Milwaukee, WI 53211

Medicare Provider #520051

Franklin Square Hospital Center, 9000 Franklin Square Drive, Baltimore, MD 21237-9986

Medicare Provider #210015

The Griffin Hospital, 130 Division Street, Derby, CT 06418

Medicare Provider #070031

Gwinnett Medical Center, 1000 Medical Center Boulevard, Lawrenceville, GA 30045

Medicare Provider #110087

Louis A. Weiss Memorial Hospital, 4646 North Marine Drive, Chicago, IL 60640

Medicare Provider #140082

The North Shore Medical Center, 81 Highland Avenue, Salem, MA 01970

Medicare Provider #220006

South Pointe Hospital, 20000 Harvard Road, Warrensville Hts., OH 44122

Medicare Provider #360144

Southwest Medical Center—Lafayette, 2810 Ambassador Caffery, Lafayette, LA 70506

Medicare Provider #190205

St. Mary's Hospital Ozaukee, Inc., 13111 North Port Washington Road, Mequon, WI 53097

Medicare Provider #520027

St. Tammany Parish Hospital, 1202 South Tyler Street, Covington, LA 70433

Medicare Provider #190045

Trinity Medical Center Terrace Park, 4500 Utica Ridge Road, Bettendorf, IA 52722

Medicare Provider #160104

UAMS Medical Center, 4301 West Markham, Little Rock, AK 72205-7199

Medicare Provider #040016

Valley Baptist Medical Center—Harlingen, P.O. Drawer 2588, 2101 Pease Street, Harlingen, TX 78551

Medicare Provider #450033

Effective Date—September 6, 2005

Carilion Roanoke Memorial Hospital, 1906 Belleview Avenue, Roanoke, VA 24014

Medicare Provider #490024

Midland Memorial Hospital, 2200 West Illinois Avenue, Midland, TX 79701-6499

Medicare Provider #450133

Provena Saint Joseph Medical Center, 333 North Madison Street, Joliet, IL 60435-6595

Medicare Provider #140007

Salinas Valley Memorial Healthcare System, 450 E. Romie Lane, Salinas, CA 93901

Medicare Provider #050334

UHHS Geauga Regional Hospital, 13207 Ravenna Road, Chardon, OH 44024

Medicare Provider #360192

Effective Date—September 8, 2005

Howard Regional Health System, 3500 South Lafountain Street, P.O. Box 9011, Kokomo, IN 46904-9011

Medicare Provider #150007

Luther Hospital, 1221 Whipple Street, P.O. Box 4105, Eau Claire, WI 54702-4105

Medicare Provider #520070

Our Lady of Fatima Hospital, 200 High Service Avenue, No. Providence, RI 02904

Medicare Provider #041005

Pitt County Memorial Hospital, Inc., P.O. Box 6028, Greenville, NC 27835-6028

Medicare Provider #340040

Effective Date—September 12, 2005

Baylor All Saints Medical Center, 1400 Eighth Avenue, Fort Worth, TX 76104

Medicare Provider #450137

St. Vincent's Hospital, Staten Island, 355 Bard Avenue, Staten Island, NY 10310

Medicare Provider #330028

SUNY Stony Brook University Hospital, Nicolls Road, Stony Brook, NY 11794

Medicare Provider #330393

The Washington Hospital, 155 Wilson Avenue, Washington, PA 15301

Medicare Provider #390042

Effective Date—September 15, 2005

Abilene Regional Medical Center, 6250 Highway 83/84, Abilene, TX 79606

Medicare Provider #450558

Bon Secours Cottage Health Services, 468 Cadieux Road, Grosse Pointe, MI 48230

Medicare Provider #230089

HealthOne/HCA Rose Medical Center, 4567 E. 9th Avenue, Denver, CO 80220

Medicare Provider #060032

Providence Health Center, 6901 Medical Parkway, Waco, TX 76712

Medicare Provider #450042

St. Edward Mercy Medical Center, 7301 Rogers Avenue, P.O. Box 17000, Fort Smith, AR 72917-7000

Medicare Provider #040062

St. Joseph's Hospital, 3001 W. Dr. M.L. King Jr. Boulevard, Tampa, FL 33607

Medicare Provider #100075

Effective Date—September 22, 2005

Baylor University Medical Center, Department of Radiology, 3500 Gaston Avenue, Dallas, TX 75246

Medicare Provider #450021

Delray Medical Center, 5352 Linton Boulevard, Delray Beach, FL 33484

Medicare Provider #100258

Desert Springs Hospital, 2075 East Flamingo Road, Las Vegas, NV 89119

Medicare Provider #290022

Ellis Hospital, 1101 Nott Street, Schenectady, NY 12308

Medicare Provider #330153

Ingham Regional Medical Center, 401 West Greenlawn Avenue, Lansing, MI 48910

Medicare Provider #230167

St. Joseph's Hospital, 11705 Mercy Boulevard, Savannah, GA 31419

Medicare Provider #110043

Mercy Hospital of Pittsburgh, 1400 Locust Street, Pittsburgh, PA 15219-5166

Medicare Provider #390028

The Pottsville Hospital and Warne Clinic, 420 South Jackson Street, Pottsville, PA 17901

Medicare Provider #390030

Southwest Mississippi Regional Medical Center, 215 Marion Avenue, McComb, MS 39648

Medicare Provider #250097

Sparks Regional Medical Center, 1311 South I Street, P.O. Box 17006, Fort Smith, AR 72917-7006

Medicare Provider #040055

Tampa General Hospital, 2 Columbia Drive, Tampa, FL 33606

Medicare Provider #100128

Wesley Medical Center, 550 N. Hillside, Wichita, KS 67214

Medicare Provider #170123

Effective Date—September 28, 2005

Advocate Illinois Masonic Medical Center, 836 W. Wellington Avenue, Chicago, IL 60657-5193

Medicare Provider #140182

East Texas Medical Center-Tyler, 1000 South Beckham, Tyler, TX 75701

Medicare Provider #450083

Maimonides Medical Center, 4802 Tenth Avenue, Brooklyn, NY 11219

Medicare Provider #330914

Mesa General Hospital, 515 North Mesa Drive, Mesa, AZ 85201

Medicare Provider #030017

Opelousas General Health System, 539 E. Prudhomme Street, P.O. Box 1389, Opelousas, LA 70570

Medicare Provider #190017

Southern Ohio Medical Center, 1895 27th Street, Portsmouth, OH 45662

Medicare Provider #360008

St. Joseph Hospital, 2901 Squalicum Parkway, Bellingham, WA 98264

Medicare Provider #500030

St. Lukes Hospital, 801 Ostrum Street, Bethlehem, PA 18015

Medicare Provider #390049

WakeMed Health and Hospitals, 3000 New Bern Avenue, Raleigh, NC 27610

Medicare Provider #340069

Yale-New Haven Hospital, 20 York Street, New Haven, CT 06504,

Medicare Provider #070022

[FR Doc. 05-24023 Filed 12-22-05; 8:45 am]

BILLING CODE 4120-01-U